DEPARTMENT OF HOUSING AND URBAN DEVELOPMENT

[Docket No. FR-4936-N-01]

Notice of Regulatory Waiver Requests Granted for the First Quarter of Calendar Year 2004

AGENCY: Office of the General Counsel, HUD.

ACTION: Notice.

SUMMARY: Section 106 of the Department of Housing and Urban Development Reform Act of 1989 (the HUD Reform Act) requires HUD to publish quarterly Federal Register notices of all regulatory waivers that HUD has approved. Each notice covers the quarterly period since the previous Federal Register notice. The purpose of this notice is to comply with the requirements of section 106 of the HUD Reform Act. This notice contains a list of regulatory waivers granted by HUD during the period beginning on January 1, 2004, and ending on March 31, 2004.

FOR FURTHER INFORMATION CONTACT: For general information about this notice, contact Aaron Santa Anna, Assistant General Counsel for Regulations, Room 10276, Department of Housing and Urban Development, 451 Seventh Street, SW., Washington, DC 20410-0500, telephone (202) 708-3055 (this is not a toll-free number). Persons with—or speech-impairments may access this number through TTY by calling the toll-free Federal Information Relay Service at 800-877-8339.

For information concerning a particular waiver that was granted and for which public notice is provided in this document, contact the person whose name and address follow the description of the waiver granted in the accompanying list of waivers that have been granted in the first quarter of calendar year 2004.

SUPPLEMENTARY INFORMATION: Section 106 of the HUD Reform Act added a new section 7(q) to the Department of Housing and Urban Development Act (42 U.S.C. 3535(q)), which provides that:

1. Any waiver of a regulation must be in writing and must specify the grounds for approving the waiver;

2. Authority to approve a waiver of a regulation may be delegated by the Secretary only to an individual of Assistant Secretary or equivalent rank, and the person to whom authority to waive is delegated must also have authority to issue the particular regulation to be waived;

3. Not less than quarterly, the Secretary must notify the public of all waivers of regulations that HUD has approved, by publishing a notice in the Federal Register. These notices (each covering the period since the most recent previous notification) shall:

a. Identify the project, activity, or undertaking involved;

b. Describe the nature of the provision waived and the designation of the provision;

c. Indicate the name and title of the person who granted the waiver request;

d. Describe briefly the grounds for approval of the request; and

e. State how additional information about a particular waiver may be obtained.

Section 106 of the HUD Reform Act also contains requirements applicable to waivers of HUD handbook provisions that are not relevant to the purpose of this notice.

This notice follows procedures provided in HUD's Statement of Policy on Waiver of Regulations and Directives issued on April 22, 1991 (56 FR 16337). This notice covers waivers of regulations granted by HUD from January 1, 2004, through March 31, 2004. For ease of reference, the waivers granted by HUD are listed by HUD program office (for example, the Office of Community Planning and Development, the Office of Housing, the Office of Public and Indian Housing, etc.). Within each program office grouping, the waivers are listed sequentially by the regulatory section of title 24 of the Code of Federal Regulations (CFR) that is being waived. For example, a waiver of a provision in 24 CFR part 58 would be listed before a waiver of a provision in 24 CFR part 570.

Where more than one regulatory provision is involved in the grant of a particular waiver request, the action is listed under the section number of the first regulatory requirement that appears in 24 CFR and that is being waived. For example, a waiver of both § 58.73 and § 58.74 would appear sequentially in the listing under § 58.73.

Waiver of regulations that involve the same initial regulatory citation are in time sequence beginning with the earliest-dated regulatory waiver.

Should HUD receive additional information about waivers granted during the period covered by this report before the next report is published, the next updated report will include these earlier waivers that were granted, as well as those that occurred during January 1, 2004, through March 31, 2004.

Accordingly, information about approved waiver requests pertaining to HUD regulations is provided in the Appendix that follows this notice.

Dated: October 20, 2004.
Kathleen D. Koch,
Acting General Counsel.

Appendix—Listing of Waivers of Regulatory Requirements Granted by Offices of the Department of Housing and Urban Development January 1, 2004, Through March 31, 2004

Note to Reader: More information about the granting of these waivers, including a copy of the waiver request and approval, may be obtained by contacting the person whose name is listed as the contact person directly after each set of regulatory waivers granted.

The regulatory waivers granted appear in the following order:

I. Regulatory waivers granted by the Office of Community Planning and Development.

II. Regulatory waivers granted by the Office of Housing.

III. Regulatory waivers granted by the Office of Public and Indian Housing.

I. Regulatory Waivers Granted by the Office of Community Planning and Development

For further information about the following regulatory waivers please see the name of the contact person that immediately follows the description of the waiver granted.

• Regulations: 24 CFR 91.115(c)(2), 24 CFR 91.325(d)(1), 24 CFR 92.209(b-k), 24 CFR 92.250, 24 CFR 92.251, 24 CFR 92.253(d), 24 CFR 92.218(a), 24 CFR 92.219(a), 24 CFR 92.221, 24 CFR 92.222(b), 24 CFR 92.300(a)(1), 24CFR 92.301, 24 CFR 92.303.

Project/Activity: The State of North Carolina requested HUD grant waivers of several HOME regulatory provisions in order to provide immediate assistance to residents adversely affected by Hurricane Isabel.

Nature of Requirements: The North Carolina Housing Finance Agency (NCHFA) requested the waiver of the following provisions in the Consolidated Plan and the HOME program regulations that relate to the citizen participation requirements, per unit subsidy limits property standards tenant protections match and tenant participation. The NCHFA stated that relief from these regulations would allow it to immediately respond to residents in need due to damage caused by the storm by providing tenant based rental assistance funds and other disaster assistance.

Granted by: Roy A. Bernardi, Assistant Secretary for Community Planning and Development.

Date Granted: February 17, 2004.

Reasons Waived: Due to the severity of the storm damage from Hurricane Isabel, there was good cause to waive the regulations requested by NCHFA.

Contact: Lisa Newman, Secretary, Office of Field Management, Department of Housing and Urban Development, 451 Seventh Street, SW., Washington, DC 20410-5000, telephone (202) 708-2565.

II. Regulatory Waivers Granted by the Office of Housing

For further information about the following regulatory waivers, please see the name of the contact person that immediately follows the description of the waiver granted.

• Regulation: 24 CFR 401.600.

Project/Activity: The following projects requested waivers to the 12-month limit at above-market rents (24 CFR 401.600):

FHA No. | Project | City | State
8335374 | Bismarck Apartments | Covington | KY
8335387 | California Square II Apartments | Louisville | KY
8335358 | Castle Village | Brodhead | KY
1335116 | Champlain Family Housing | Rouses Point | NY
6235390 | Fair Park Apartments | Birmingham | AL
12735328 | Fern Hill Terrace | Tacoma | WA
5635065 | La Torrecilla Development | Barranquitas | PR
8535323 | Lakewood Apartments | Columbia | MO
5335400 | Lynnhaven Apartments | Durham | NC
6235344 | Mill Run Apartments | Mobile | AL
6135383 | Moultrie Manor Apartments | Moultrie | GA
8535343 | Murphy Blair Rehab III | Saint Louis | MO
6735246 | Ridgedale Apartments | Avon Park | FL
6735243 | Ridgewood Apartments | Winter Haven | FL
8435258 | Ridgewood Hills | Harrisonville | MO
5335385 | Robin Ridge Apartments | Robbinsville | NC
10935054 | Shoshone Court | Cody | WY
13335055 | Sierra Vista Apartments | El Paso | TX
10135241 | Summersong Townhouses | Denver | CO
1732024 | Underwood III | Hartford | CT

Nature of Requirement: Section 401.600 requires that projects be marked down to market rents within 12 months of their first expiration date after January 1, 1998. The intent of this provision is to ensure timely processing of requests for restructuring, and that the properties will not default on their FHA-insured mortgages during the restructuring process.

Granted by: John C. Weicher, Assistant Secretary for Housing-Federal Housing Commissioner.

Date Granted: January 30, 2004.

Reason Waived: The projects listed above were not assigned to the participating administrative entities (PAEs) in a timely manner and therefore the restructuring analysis was unavoidably delayed due to no fault of the owner.

Contact: Norman Dailey, Office of Multifamily Housing Assistance Restructuring, Department of Housing and Urban Development, Portals Building, Suite 400, 1280 Maryland Avenue, SW., Washington, DC 20410-8000; telephone (202) 708-3856.

• Regulation: 24 CFR 401.600.

Project/Activity: The following projects requested waivers to the 12-month limit at above-market rents (24 CFR 401.600):

FHA No. | Project | City | State
1235472 | Barkley Gardens | Liberty | NY
2435040 | Chestnut Place | Lewiston | ME
1257060 | Concourse Plaza | Bronx | NY
1257205 | Dean North Apartments | Brooklyn | NY
4235336 | Eastland Woods | Akron | OH
7135428 | Evergreen Terrace I | Joliet | IL
1335095 | Faxton Scott House (aka Margaret Knamm Apts) | Utica | NY
4235396 | Findlay Green Apartments | Findlay | OH
1335102 | James F. Lettis Apartments | Oneonta | NY
11835102 | McAlester Plaza | McAlester | OK
4235373 | Newton Woods | Akron | OH
6235355 | Oak Trace Apartments | Tuscaloosa | AL
1257162 | Pennsylvania Avenue Apartments | Brooklyn | NY
5235307 | Poppleton Place Apartments | Baltimore | MD
4235331 | Shaker Boulevard Gardens | Cleveland | OH
3135269 | St. Mary's Villa | Newark | NJ
8435196 | Sullivan Hall | Slater | MO
1257148 | The Gateways (aka Greenport Apartments) | Far Rockaway | NY
4235384 | The Plaza Apartments | Toledo | OH
1257180 | Union Gardens I | Brooklyn | NY
1257161 | Unity Apartments | Brooklyn | NY
2335253 | Villa Nueva Vista | Springfield | MA
1735210 | Village Apartments | South Meriden | CT
3435186 | Williamsport NSA | Williamsport | PA

Nature of Requirement: Section 401.600 requires that projects be marked down to market rents within 12 months of their first expiration date after January 1, 1998. The intent of this provision is to ensure timely processing of requests for restructuring, and that the properties will not default on their FHA-insured mortgages during the restructuring process.

Granted by: John C. Weicher, Assistant Secretary for Housing-Federal Housing Commissioner.

Date Granted: January 30, 2004.

Reason Waived: The projects listed above were not assigned to the participating administrative entities (PAEs) in a timely manner and therefore the restructuring analysis was unavoidably delayed due to no fault of the owner.

Contact: Norman Dailey, Office of Multifamily Housing Assistance Restructuring, Department of Housing and Urban Development, Portals Building, Suite 400, 1280 Maryland Avenue, SW., Washington, DC 20410-8000; telephone (202) 708-3856.

• Regulation: 24 CFR 401.600.

Project/Activity: The following projects requested waivers to the 12-month limit at above-market rents (24 CFR 401.600):

FHA No. | Project | City | State
00035283 | Atlantic Gardens | Washington | DC
3135228 | Avon Hills Apartments | Newark | NJ
08335362 | Bedford Commons Apartments | Bedford | KY
01335083 | Mansions Rehab Project | Albany | NY
06135285 | Oakland City/West End Apartments | Atlanta | GA
06135285 | Oakland City/West End Apartments | Atlanta | GA
01335122 | Pastures Preservation (Pastures Redevelopment) | Albany | NY
08735146 | Pikeville Townhouses | Pikeville | TN
04235391 | Springhill Homes | Akron | OH
08535348 | Union Sarah 510 Demonstration | Saint Louis | MO

Nature of Requirement: Section 401.600 requires that projects be marked down to market rents within 12 months of their first expiration date after January 1, 1998. The intent of this provision is to ensure timely processing of requests for restructuring, and that the properties will not default on their FHA-insured mortgages during the restructuring process.

Granted by: John C. Weicher, Assistant Secretary for Housing-Federal Housing Commissioner.

Date Granted: February 23, 2004.

Reason Waived: The projects listed above were not assigned to the participating administrative entities (PAEs) in a timely manner and therefore the restructuring analysis was unavoidably delayed due to no fault of the owner.

Contact: Norman Dailey, Office of Multifamily Housing Assistance Restructuring, Department of Housing and Urban Development, Portals Building, Suite 400, 1280 Maryland Avenue, SW., Washington, DC 20410-8000; telephone (202) 708-3856.

• Regulation: 24 CFR 401.600.

Project/Activity: The following projects requested waivers to the 12-month limit at above-market rents (24 CFR 401.600):

FHA No. | Project | City | State
01257186 | Bedford Stuyvesant NSAI | Brooklyn | NY
01335105 | Brandegee Gardens | Utica | NY
01257141 | Bruckner Houses | Bronx | NY
03435185 | Cobbs Creek NSA | Philadelphia | PA
01257075 | Davidson Avenue Rehab II | Bronx | NY
06235161 | Four Winds East Apartments | Birmingham | AL
05135300 | John Perry House | Woodstock | VA
04335293 | Lawrence Commons | South Point | OH
01335117 | Lillian Y. Cooper Apartments | Utica | NY
04335238 | McArthur Park | Mc Arthur | OH
01235449 | Pinecrest Manor | Mount Kisco | NY
05435473 | Spruce Pines Apartments | Landrum | SC
07335448 | The Crossings II Apartments | Evansville | IN
01257161 | Unity Apartments | Brooklyn | NY
04235385 | Vistula Heritage II | Toledo | OH

Nature of Requirement: Section 401.600 requires that projects be marked down to market rents within 12 months of their first expiration date after January 1, 1998. The intent of this provision is to ensure timely processing of requests for restructuring, and that the properties will not default on their FHA-insured mortgages during the restructuring process.

Granted by: John C. Weicher, Assistant Secretary for Housing-Federal Housing Commissioner.

Date Granted: February 23, 2004.

Reason Waived: The projects listed above were not assigned to the participating administrative entities (PAEs) in a timely manner and therefore the restructuring analysis was unavoidably delayed due to no fault of the owner.

Contact: Norman Dailey, Office of Multifamily Housing Assistance Restructuring, Department of Housing and Urban Development, Portals Building, Suite 400, 1280 Maryland Avenue, SW., Washington, DC 20410-8000; telephone (202) 708-3856.

• Regulation: 24 CFR 401.600.

Project/Activity: The following projects requested waivers to the 12-month limit at above-market rents (24 CFR 401.600):

FHA No. | Project | City | State
1257294 | 1451 Development | Brooklyn | NY
7335457 | Bremen Village Apartments | Bremen | IN
2435046 | Centre Ville Commons | Lewiston | ME
4235399 | Fostoria Green | Fostoria | OH
5235385 | Foxwell Memorial Apartments | Baltimore | MD
6235350 | Hermitage Knoll Apartments | Florence | AL
4435497 | Himelhoch Apartments | Detroit | MI
6235380 | Isle Parkway Apartments | Mobile | AL
4735009 | Little Blue Lake Cooperative | Blue Lake Township | MI
10135344 | Mount Massive Manor | Leadville | CO
1257171 | Parkview (aka North Flatbush Apartments) | Brooklyn | NY
1257285 | Penn Gardens I | Brooklyn | NY
6235360 | Rickwood Apartrments | Birmingham | AL
1335106 | Schenectady Forty | Schenectady | NY
10135332 | Silver Spruce Apartments | Kremmling | CO
5335346 | Walnut West Apartments | Elizabeth City | NC
5335456 | Westside Apartments | Charlotte | NC

Nature of Requirement: Section 401.600 requires that projects be marked down to market rents within 12 months of their first expiration date after January 1, 1998. The intent of this provision is to ensure timely processing of requests for restructuring, and that the properties will not default on their FHA-insured mortgages during the restructuring process.

Granted by: John C. Weicher, Assistant Secretary for Housing-Federal Housing Commissioner.

Date Granted: March 26, 2004.

Reason Waived: The projects listed above were not assigned to the participating administrative entities (PAEs) in a timely manner and therefore the restructuring analysis was unavoidably delayed due to no fault of the owner.

Contact: Norman Dailey, Office of Multifamily Housing Assistance Restructuring, Department of Housing and Urban Development, Portals Building, Suite 400, 1280 Maryland Avenue, SW., Washington, DC 20410-8000; telephone (202) 708-3856.

• Regulation: 24 CFR 401.600.

Project/Activity: The following projects requested waivers to the 12-month limit at above-market rents (24 CFR 401.600):

FHA No. | Project | City | State
1257076 | 1988 Davidson Avenue | Bronx | NY
7235081 | Bissel Apartments | Venice | IL
1257060 | Concourse Plaza | Bronx | NY
1257252 | Featherbed Lane | Bronx | NY
1335108 | Genesee Towers | Utica | NY
6235367 | Janmar Apartments | Birmingham | AL
1257164 | Jerome Terrace Apartments | Bronx | NY
1235312 | Marion Avenue Rehabilitation | Bronx | NY
11335005 | Prince Hall Gardens II | Fort Worth | TX
2335172 | Schoolhouse 77 | Roxbury | MA
1255173 | Siloam House | Brooklyn | NY
8335339 | Town House Apts. | Livermore | KY
10935048 | Village Gardens Apartments | Casper | WY
8435263 | Village Place | Bethany | MO

Nature of Requirement: Section 401.600 requires that projects be marked down to market rents within 12 months of their first expiration date after January 1, 1998. The intent of this provision is to ensure timely processing of requests for restructuring, and that the properties will not default on their FHA-insured mortgages during the restructuring process.

Granted by: John C. Weicher, Assistant Secretary for Housing-Federal Housing Commissioner.

Date Granted: March 26, 2004.

Reason Waived: The projects listed above were not assigned to the participating administrative entities (PAEs) in a timely manner and therefore the restructuring analysis was unavoidably delayed due to no fault of the owner.

Contact: Norman Dailey, Office of Multifamily Housing Assistance Restructuring, Department of Housing and Urban Development, Portals Building, Suite 400, 1280 Maryland Avenue, SW., Washington, DC 20410-8000; telephone (202) 708-3856.

• Regulation: 24 CFR 891.100(d).

Project/Activity: 1408 Moultrie Avenue Group Home, Norfolk, VA, Project Number: 051-HD107/VA36-Q011-010.

Nature of Requirement: Section 89.100(d) prohibits amendment of the amount of the approved capital advance funds prior to initial closing.

Granted by: John C. Weicher, Assistant Secretary for Housing-Federal Housing Commissioner.

Date Granted: January 16, 2004.

Reason Waived: The project is economically designed, comparable in cost to similar projects in the area, and the sponsor/owner has exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Toby House VIII, Phoenix, AZ, Project Number: 123-HD033/AZ20-Q011-001.

Nature of Requirement: Section 89.100(d) prohibits amendment of the amount of the approved capital advance funds prior to initial closing.

Granted by: John C. Weicher, Assistant Secretary for Housing-Federal Housing Commissioner.

Date Granted: January 16, 2004.

Reason Waived: The project is economically designed, comparable in cost to similar projects in the area, and the sponsor exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Port Town Village, Urbanna, VA, Project Number: 051-EE091/VA36-S021-004.

Nature of Requirement: Section 89.100(d) prohibits amendment of the amount of the approved capital advance funds prior to initial closing.

Granted by: John C. Weicher, Assistant Secretary for Housing-Federal Housing Commissioner.

Date Granted: January 30, 2004.

Reason Waived: The project is economically designed and comparable in cost to other similar projects in the area, and the sponsor exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Bethphage Housing VII, Kansas City, KS, Project Number: 084-HD041/KS16-Q021-001.

Nature of Requirement: Section 89.100(d) prohibits amendment of the amount of the approved capital advance funds prior to initial closing.

Granted by: John C. Weicher, Assistant Secretary for Housing-Federal Housing Commissioner.

Date Granted: January 30, 2004.

Reason Waived: Project is economically designed, comparable in cost to similar projects in the area, and the sponsor exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Positively 3rd Street, New York, NY, Project Number: 012-EE287/NY36-S001-002.

Nature of Requirement: Section 89.100(d) prohibits amendment of the amount of the approved capital advance funds prior to initial closing.

Granted by: John C. Weicher, Assistant Secretary for Housing-Federal Housing Commissioner.

Date Granted: February 4, 2004.

Reason Waived: The project is economically designed, is comparable to other similar projects developed in the area, and the sponsor exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: HH Ownership Condos, Nashua, NH, Project Number: 024-HD038/NH36-Q021-001.

Nature of Requirement: Section 89.100(d) prohibits amendment of the amount of the approved capital advance funds prior to initial closing.

Granted by: John C. Weicher, Assistant Secretary for Housing-Federal Housing Commissioner.

Date Granted: February 6, 2004.

Reason Waived: The project is economically designed, is comparable to other similar projects developed in the area, and the sponsor exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Harvard Road Group Home, Waynesboro, VA, Project Number: 051-HD111/VA36-Q021-002.

Nature of Requirement: Section 89.100(d) prohibits amendment of the amount of the approved capital advance funds prior to initial closing.

Granted by: John C. Weicher, Assistant Secretary for Housing-Federal Housing Commissioner.

Date Granted: February 6, 2004.

Reason Waived: The project is economically designed, is comparable to other similar projects developed in the area, and the sponsor exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Rochester Supportive Housing, Rochester, MN, Project Number: 092-HD057/MN46-Q021-002.

Nature of Requirement: Section 89.100(d) prohibits amendment of the amount of the approved capital advance funds prior to initial closing.

Granted by: John C. Weicher, Assistant Secretary for Housing-Federal Housing Commissioner.

Date Granted: February 25, 2004.

Reason Waived: The project is economically designed, is comparable to other similar projects developed in the area, and the sponsor exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Albuquerque New Life Home 3, Albuquerque, NM, Project Number: 116-HD019/NM16-Q021-001.

Nature of Requirement: Section 89.100(d) prohibits amendment of the amount of the approved capital advance funds prior to initial closing.

Granted by: John C. Weicher, Assistant Secretary for Housing-Federal Housing Commissioner.

Date Granted: February 25, 2004.

Reason Waived: The project is economically designed, comparable in cost to similar projects in the area, and the sponsor exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: On With Life Supportive Housing, Ankeny, IA, Project Number: 074-HD024/IA05-Q021-001.

Nature of Requirement: Section 89.100(d) prohibits amendment of the amount of the approved capital advance funds prior to initial closing.

Granted by: John C. Weicher, Assistant Secretary for Housing-Federal Housing Commissioner.

Date Granted: February 26, 2004.

Reason Waived: The project is economically designed, comparable in cost to similar projects in the area, and the sponsor exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Options Supportive Housing VIII, Port Jefferson Station, NY, Project Number: 012-HD110/NY36-Q021-001.

Nature of Requirement: Section 89.100(d) prohibits amendment of the amount of the approved capital advance funds prior to initial closing.

Granted by: John C. Weicher, Assistant Secretary for Housing-Federal Housing Commissioner.

Date Granted: March 22, 2004.

Reason Waived: The project is economically designed, is comparable to other similar projects developed in the area, and the sponsor exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: St. John's Manor, Glendale, AZ, Project Number: 123-EE079/AZ20-S011-001.

Nature of Requirement: Section 89.100(d) prohibits amendment of the amount of the approved capital advance funds prior to initial closing.

Granted by: John C. Weicher, Assistant Secretary for Housing-Federal Housing Commissioner.

Date Granted: March 23, 2004.

Reason Waived: The project is economically designed, comparable in cost to similar projects in the area, and the sponsor exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Piney Ridge Apartments, Danville, VA, Project Number: 051-HD077/VA36-Q981-008.

Nature of Requirement: Section 89.100(d) prohibits amendment of the amount of the approved capital advance funds prior to initial closing.

Granted by: John C. Weicher, Assistant Secretary for Housing-Federal Housing Commissioner.

Date Granted: March 23, 2004.

Reason Waived: The project is economically designed, comparable to other similar projects developed in the area, and the sponsor exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Minnehaha County Supportive Housing, Inc., Sioux Falls, SD, Project Number: 091-EE005/SD99-S011-001.

Nature of Requirement: Section 89.100(d) prohibits amendment of the amount of the approved capital advance funds prior to initial closing.

Granted by: John C. Weicher, Assistant Secretary for Housing-Federal Housing Commissioner.

Date Granted: March 24, 2004.

Reason Waived: The project is economically designed and comparable in cost to similar projects developed in the area, and the sponsor exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d).

Project/Activity: Family Services of Western Pennsylvania II, Apollo, PA, Project Number: 033-HD064/PA28-Q011-002.

Nature of Requirement: Section 89.100(d) prohibits amendment of the amount of the approved capital advance funds prior to initial closing.

Granted by: John C. Weicher, Assistant Secretary for Housing-Federal Housing Commissioner.

Date Granted: March 26, 2004.

Reason Waived: The project is economically designed, is comparable to other similar projects developed in the area, and the sponsor exhausted all efforts to obtain additional funding from other sources.

Contact: Willie Spearmon, Director, Office of Housing Assistance and Grant Administration, Department of Housing and Urban Development, 451 Seventh Street, SW., Washington, DC 20410-8000, telephone (202) 708-3000.

• Regulation: 24 CFR 891.100(d) and 24 CFR 891.165.

Project/Activity: Positively 3rd Street, New York, NY, Project Number: 012-EE287/NY36-S001-002.

Nature of Requirement: Section 891.100(d) prohibits amendment of the amount of the approved capital advance funds prior to initial closing. Section 891.165 provides that the duration of the fund reservation of the capital advance is 24 months.

Granted by: John C. Weicher, Assistant Secretary for Housing-Federal Housing Commissioner.

Date Granted: February 4, 2004.

Reason Waived: The project is economically designed and comparable in cost to similar projects developed in the area, and the sponsor exhausted all efforts to obtain additional funding from other sources. Additional time was needed to conduct an extensive cost review to assure that the project is cost effective.

Contact: Willie Spearmon, Director, Office of Housing Assistance and Grant Administration, Department of Housing and Urban Development, 451 Seventh Street, SW., Washington, DC 20410-8000, telephone (202) 708-3000.

• Regulation: 24 CFR 891.100(d) and 24 CFR 891.165.

Project/Activity: Vinfen's Larchmont Residence, Dorchester, MA, Project Number: 023-HD166/MA06-Q001-004.

Nature of Requirement: Section 891.100(d) prohibits amendment of the amount of the approved capital advance funds prior to initial closing. Section 891.165 provides that the duration of the fund reservation of the capital advance is 24 months.

Granted by: John C. Weicher, Assistant Secretary for Housing-Federal Housing Commissioner.

Date Granted: March 9, 2004.

Reason Waived: The project is economically designed and comparable in cost to similar projects developed in the area, and the sponsor exhausted all efforts to obtain additional funding from other sources. Additional time was needed to prepare for initial closing.

Contact: Willie Spearmon, Director, Office of Housing Assistance and Grant Administration, Department of Housing and Urban Development, 451 Seventh Street, SW., Washington, DC 20410-8000, telephone (202) 708-3000.

• Regulation: 24 CFR 891.165.

Project/Activity: Balsam Lake Disabled Housing, Balsam Lake, WI, Project Number: 075-HD069/WI39-Q011-002.

Nature of Requirement: Section 891.165 provides that the duration of the fund reservation of the capital advance is 18 months from the date of issuance with limited exception up to 24 months, as approved by HUD on a case-by-case basis.

Granted by: John C. Weicher, Assistant Secretary for Housing-Federal Housing Commissioner.

Date Granted: January 2, 2004.

Reason Waived: Additional time was needed to secure a site.

Contact: Willie Spearmon, Director, Office of Housing Assistance and Grant Administration, Department of Housing and Urban Development, 451 Seventh Street, SW., Washington, DC 20410-8000, telephone (202) 708-3000.

• Regulation: 24 CFR 891.165.

Project/Activity: Flury Place, Elkridge MD, Project Number: 052-HD034/MD06-Q981-004.

Nature of Requirement: Section 891.165 provides that the duration of the fund reservation of the capital advance is 18 months from the date of issuance with limited exception up to 24 months, as approved by HUD on a case-by-case basis.

Granted by: John C. Weicher, Assistant Secretary for Housing-Federal Housing Commissioner.

Date Granted: January 7, 2004.

Reason Waived: Additional time was needed due to changes required by the county, in order to obtain a building permit, and for the general contractor to obtain subcontractor bids on the required changes.

Contact: Willie Spearmon, Director, Office of Housing Assistance and Grant Administration, Department of Housing and Urban Development, 451 Seventh Street, SW., Washington, DC 20410-8000, telephone (202) 708-3000.

• Regulation: 24 CFR 891.165.

Project/Activity: Accessible Space, Incorporated, Birmingham AL, Project Number: 062-HD041/AL09-Q981-004.

Nature of Requirement: Section 891.165 provides that the duration of the fund reservation of the capital advance is 18 months from the date of issuance with limited exception up to 24 months, as approved by HUD on a case-by-case basis.

Granted by: John C. Weicher, Assistant Secretary for Housing-Federal Housing Commissioner.

Date Granted: January 7, 2004.

Reason Waived: Additional time was needed to reprocess the firm commitment application due to changes in the design of the project.

Contact: Willie Spearmon, Director, Office of Housing Assistance and Grant Administration, Department of Housing and Urban Development, 451 Seventh Street, SW., Washington, DC 20410-8000, telephone (202) 708-3000.

• Regulation: 24 CFR 891.165.

Project/Activity: Newell Retirement Apartments, San Antonio, TX, Project Number: 115-EE062/TX59-S011-002.

Nature of Requirement: Section 891.165 provides that the duration of the fund reservation of the capital advance is 18 months from the date of issuance with limited exception up to 24 months, as approved by HUD on a case-by-case basis.

Granted by: John C. Weicher, Assistant Secretary for Housing-Federal Housing Commissioner.

Date Granted: January 7, 2004.

Reason Waived: Additional time was needed to address requirements imposed by the City of San Antonio in order to comply with fire safety code issues as well as environmental issues.

Contact: Willie Spearmon, Director, Office of Housing Assistance and Grant Administration, Department of Housing and Urban Development, 451 Seventh Street, SW., Washington, DC 20410-8000, telephone (202) 708-3000.

• Regulation: 24 CFR 891.165.

Project/Activity: Ozone Park Residence, Ozone Park, NY, Project Number: 012-HD100/NY36-Q001-005.

Nature of Requirement: Section 891.165 provides that the duration of the fund reservation of the capital advance is 18 months from the date of issuance with limited exception up to 24 months, as approved by HUD on a case-by-case basis.

Granted by: John C. Weicher, Assistant Secretary for Housing-Federal Housing Commissioner.

Date Granted: January 9, 2004.

Reason Waived: Additional time was needed to review the initial closing documents.

Contact: Willie Spearmon, Director, Office of Housing Assistance and Grant Administration, Department of Housing and Urban Development, 451 Seventh Street, SW., Washington, DC 20410-8000, telephone (202) 708-3000.

• Regulation: 24 CFR 891.165.

Project/Activity: Skyline Apartments, Napa, CA, Project Number: 121-HD074/CA39-Q001-003.

Nature of Requirement: Section 891.165 provides that the duration of the fund reservation of the capital advance is 18 months from the date of issuance with limited exception up to 24 months, as approved by HUD on a case-by-case basis.

Granted by: John C. Weicher, Assistant Secretary for Housing-Federal Housing Commissioner.

Date Granted: January 13, 2004.

Reason Waived: Additional time was needed to submit and review the initial closing documents.

Contact: Willie Spearmon, Director, Office of Housing Assistance and Grant Administration, Department of Housing and Urban Development, 451 Seventh Street, SW., Washington, DC 20410-8000, telephone (202) 708-3000.

• Regulation: 24 CFR 891.165.

Project/Activity: Tierra del Sol, Cathedral City, CA, Project Number: 143-EE041/CA43-S001-005.

Nature of Requirement: Section 891.165 provides that the duration of the fund reservation of the capital advance is 18 months from the date of issuance with limited exception up to 24 months, as approved by HUD on a case-by-case basis.

Granted by: John C. Weicher, Assistant Secretary for Housing-Federal Housing Commissioner.

Date Granted: January 13, 2004.

Reason Waived: Additional time was needed to review and process the firm commitment application.

Contact: Willie Spearmon, Director, Office of Housing Assistance and Grant Administration, Department of Housing and Urban Development, 451 Seventh Street, SW., Washington, DC 20410-8000, telephone (202) 708-3000.

• Regulation: 24 CFR 891.165.

Project/Activity: St. Theresa's House, Lynn, MA, Project Number: 023-EE133/MA06-S011-005.

Nature of Requirement: Section 891.165 provides that the duration of the fund reservation of the capital advance is 18 months from the date of issuance with limited exception up to 24 months, as approved by HUD on a case-by-case basis.

Granted by: John C. Weicher, Assistant Secretary for Housing-Federal Housing Commissioner.

Date Granted: January 13, 2004.

Reason Waived: Additional time was needed for the Internal Revenue Service (IRS) to grant tax-exempt status to the owner.

Contact: Willie Spearmon, Director, Office of Housing Assistance and Grant Administration, Department of Housing and Urban Development, 451 Seventh Street, SW., Washington, DC 20410-8000, telephone (202) 708-3000.

• Regulation: 24 CFR 891.165.

Project/Activity: West Brighton Seniors, West Brighton, NY, Project Number: 014-EE206/NY06-S011-005.

Nature of Requirement: Section 891.165 provides that the duration of the fund reservation of the capital advance is 18 months from the date of issuance with limited exception up to 24 months, as approved by HUD on a case-by-case basis.

Granted by: John C. Weicher, Assistant Secretary for Housing-Federal Housing Commissioner.

Date Granted: January 16, 2004.

Reason Waived: Additional time was needed to seek secondary financing, and to submit the firm commitment application.

Contact: Willie Spearmon, Director, Office of Housing Assistance and Grant Administration, Department of Housing and Urban Development, 451 Seventh Street, SW., Washington, DC 20410-8000, telephone (202) 708-3000.

• Regulation: 24 CFR 891.165.

Project/Activity: Cornhill Apartments, Rochester, NY, Project Number: 014-HD099/NY06-Q001-009.

Nature of Requirement: Section 891.165 provides that the duration of the fund reservation of the capital advance is 18 months from the date of issuance with limited exception up to 24 months, as approved by HUD on a case-by-case basis.

Granted by: John C. Weicher, Assistant Secretary for Housing-Federal Housing Commissioner.

Date Granted: January 16, 2004.

Reason Waived: The project experienced delays resulting from the Phase II Environmental Site Assessment and acquisition of secondary financing.

Contact: Willie Spearmon, Director, Office of Housing Assistance and Grant Administration, Department of Housing and Urban Development, 451 Seventh Street, SW., Washington, DC 20410-8000, telephone (202) 708-3000.

• Regulation: 24 CFR 891.165.

Project/Activity: Eagle River Disabled Housing, Eagle River, WI, Project Number: 075-HD066/WI39-Q001-003.

Nature of Requirement: Section 891.165 provides that the duration of the fund reservation of the capital advance is 18 months from the date of issuance with limited exception up to 24 months, as approved by HUD on a case-by-case basis.

Granted by: John C. Weicher, Assistant Secretary for Housing-Federal Housing Commissioner.

Date Granted: January 16, 2004.

Reason Waived: Additional time was needed for the sponsor to revise the firm commitment application.

Contact: Willie Spearmon, Director, Office of Housing Assistance and Grant Administration, Department of Housing and Urban Development, 451 Seventh Street, SW., Washington, DC 20410-8000, telephone (202) 708-3000.

• Regulation: 24 CFR 891.165.

Project/Activity: St. Brendan Senior Residences, Chicago, IL, Project Number: 071-EE159/IL06-S001-005.

Nature of Requirement: Section 891.165 provides that the duration of the fund reservation of the capital advance is 18 months from the date of issuance with limited exception up to 24 months, as approved by HUD on a case-by-case basis.

Granted by: John C. Weicher, Assistant Secretary for Housing-Federal Housing Commissioner.

Date Granted: January 16, 2004.

Reason Waived: Additional time was needed to review the initial closing documents.

Contact: Willie Spearmon, Director, Office of Housing Assistance and Grant Administration, Department of Housing and Urban Development, 451 Seventh Street, SW., Washington, DC 20410-8000, telephone (202) 708-3000.

• Regulation: 24 CFR 891.165.

Project/Activity: Riley House, Hyde Park, MA, Project Number: 023-EE111/MA06-S991-005.

Nature of Requirement: Section 891.165 provides that the duration of the fund reservation of the capital advance is 18 months from the date of issuance with limited exception up to 24 months, as approved by HUD on a case-by-case basis.

Granted by: John C. Weicher, Assistant Secretary for Housing-Federal Housing Commissioner.

Date Granted: January 16, 2004.

Reason Waived: Additional time was needed to submit and review the initial closing documents.

Contact: Willie Spearmon, Director, Office of Housing Assistance and Grant Administration, Department of Housing and Urban Development, 451 Seventh Street, SW., Washington, DC 20410-8000, telephone (202) 708-3000.

• Regulation: 24 CFR 891.165.

Project/Activity: St. Francis Cabrini Gardens, Coram, NY, Project Number: 012-EE288/NY36-S001-003.

Nature of Requirement: Section 891.165 provides that the duration of the fund reservation of the capital advance is 18 months from the date of issuance with limited exception up to 24 months, as approved by HUD on a case-by-case basis.

Granted by: John C. Weicher, Assistant Secretary for Housing-Federal Housing Commissioner.

Date Granted: January 20, 2004.

Reason Waived: Additional time was needed to review the initial closing documents.

Contact: Willie Spearmon, Director, Office of Housing Assistance and Grant Administration, Department of Housing and Urban Development, 451 Seventh Street, SW., Washington, DC 20410-8000, telephone (202) 708-3000.

• Regulation: 24 CFR 891.165.

Project/Activity: Toby House VIII, Phoenix, AZ, Project Number: 123-HD033/AZ20-Q011-001.

Nature of Requirement: Section 891.165 provides that the duration of the fund reservation of the capital advance is 18 months from the date of issuance with limited exception up to 24 months, as approved by HUD on a case-by-case basis.

Granted by: John C. Weicher, Assistant Secretary for Housing-Federal Housing Commissioner.

Date Granted: January 20, 2004.

Reason Waived: Additional time was needed to receive approvals from the City of Phoenix Council, and to process the firm commitment application.

Contact: Willie Spearmon, Director, Office of Housing Assistance and Grant Administration, Department of Housing and Urban Development, 451 Seventh Street, SW., Washington, DC 20410-8000, telephone (202) 708-3000.

• Regulation: 24 CFR 891.165.

Project/Activity: Luther Ridge, Middletown, CT, Project Number: 017-EE053/CT26-S991-004.

Nature of Requirement: Section 891.165 provides that the duration of the fund reservation of the capital advance is 18 months from the date of issuance with limited exception up to 24 months, as approved by HUD on a case-by-case basis.

Granted by: John C. Weicher, Assistant Secretary for Housing-Federal Housing Commissioner.

Date Granted: January 20, 2004.

Reason Waived: Additional time was needed to resolve issues associated with the condominium structure.

Contact: Willie Spearmon, Director, Office of Housing Assistance and Grant Administration, Department of Housing and Urban Development, 451 Seventh Street, SW., Washington, DC 20410-8000, telephone (202) 708-3000.

• Regulation: 24 CFR 891.165.

Project/Activity: The Daisy House, Rochester, NY, Project Number: 014-EE208/NY06-S011-007.

Nature of Requirement: Section 891.165 provides that the duration of the fund reservation of the capital advance is 18 months from the date of issuance with limited exception up to 24 months, as approved by HUD on a case-by-case basis.

Granted by: John C. Weicher, Assistant Secretary for Housing-Federal Housing Commissioner.

Date Granted: January 20, 2004.

Reason Waived: Additional time was needed to submit and review the firm commitment application.

Contact: Willie Spearmon, Director, Office of Housing Assistance and Grant Administration, Department of Housing and Urban Development, 451 Seventh Street, SW., Washington, DC 20410-8000, telephone (202) 708-3000.

• Regulation: 24 CFR 891.165.

Project/Activity: Cabrini Senior Housing, New York, NY, Project Number: 012-EE307/NY36-S011-001.

Nature of Requirement: Section 891.165 provides that the duration of the fund reservation of the capital advance is 18 months from the date of issuance with limited exception up to 24 months, as approved by HUD on a case-by-case basis.

Granted by: John C. Weicher, Assistant Secretary for Housing-Federal Housing Commissioner.

Date Granted: January 23, 2004.

Reason Waived: Additional time was needed to obtain a building permit from the City of New York Department of Buildings.

Contact: Willie Spearmon, Director, Office of Housing Assistance and Grant Administration, Department of Housing and Urban Development, 451 Seventh Street, SW., Washington, DC 20410-8000, telephone (202) 708-3000.

• Regulation: 24 CFR 891.165.

Project/Activity: Hall Commons, Bridgeport, CT, Project Number: 017-EE063/CT26-S001-006.

Nature of Requirement: Section 891.165 provides that the duration of the fund reservation of the capital advance is 18 months from the date of issuance with limited exception up to 24 months, as approved by HUD on a case-by-case basis.

Granted by: John C. Weicher, Assistant Secretary for Housing-Federal Housing Commissioner.

Date Granted: January 24, 2004.

Reason Waived: Additional time was needed due to the City of Bridgeport's delay in completing the environmental clean up. Additional time was also needed to process the firm commitment application.

Contact: Willie Spearmon, Director, Office of Housing Assistance and Grant Administration, Department of Housing and Urban Development, 451 Seventh Street, SW., Washington, DC 20410-8000, telephone (202) 708-3000.

• Regulation: 24 CFR 891.165.

Project/Activity: PSCH Dewitt Residence, Brooklyn, NY, Project Number: 012-HD-102/NY36-Q001-007.

Nature of Requirement: Section 891.165 provides that the duration of the fund reservation of the capital advance is 18 months from the date of issuance with limited exception up to 24 months, as approved by HUD on a case-by-case basis.

Granted by: John C. Weicher, Assistant Secretary for Housing-Federal Housing Commissioner.

Date Granted: January 30, 2004.

Reason Waived: Additional time was needed to secure an approvable site.

Contact: Willie Spearmon, Director, Office of Housing Assistance and Grant Administration, Department of Housing and Urban Development, 451 Seventh Street, SW., Washington, DC 20410-8000, telephone (202) 708-3000.

• Regulation: 24 CFR 891.165.

Project/Activity: Ghost Creek Housing, River Falls, WI, Project Number: 075-HD067/WI39-Q001-004.

Nature of Requirement: Section 891.165 provides that the duration of the fund reservation of the capital advance is 18 months from the date of issuance with limited exception up to 24 months, as approved by HUD on a case-by-case basis.

Granted by: John C. Weicher, Assistant Secretary for Housing-Federal Housing Commissioner.

Date Granted: February 2, 2004.

Reason Waived: Additional time was needed due to litigation, neighborhood opposition, and attempts to secure secondary financing.

Contact: Willie Spearmon, Director, Office of Housing Assistance and Grant Administration, Department of Housing and Urban Development, 451 Seventh Street, SW., Washington, DC 20410-8000, telephone (202) 708-3000.

• Regulation: 24 CFR 891.165.

Project/Activity: Jubilee House, Wellesley, MA, Project Number: 023-HD159/MA06-Q991-007.

Nature of Requirement: Section 891.165 provides that the duration of the fund reservation of the capital advance is 18 months from the date of issuance with limited exception up to 24 months, as approved by HUD on a case-by-case basis.

Granted by: John C. Weicher, Assistant Secretary for Housing-Federal Housing Commissioner.

Date Granted: February 11, 2004.

Reason Waived: Additional time was needed to submit the firm commitment Application.

Contact: Willie Spearmon, Director, Office of Housing Assistance and Grant Administration, Department of Housing and Urban Development, 451 Seventh Street, SW., Washington, DC 20410-8000, telephone (202) 708-3000.

• Regulation: 24 CFR 891.165.

Project/Activity: Westmoreland Apartments, Huntington, WV, Project Number: 045-EE017/WV15-S011-003.

Nature of Requirement: Section 891.165 provides that the duration of the fund reservation of the capital advance is 18 months from the date of issuance with limited exception up to 24 months, as approved by HUD on a case-by-case basis.

Granted by: John C. Weicher, Assistant Secretary for Housing-Federal Housing Commissioner.

Date Granted: February 11, 2004.

Reason Waived: Additional time was needed to review corrected initial closing documents and prepare for closing.

Contact: Willie Spearmon, Director, Office of Housing Assistance and Grant Administration, Department of Housing and Urban Development, 451 Seventh Street, SW., Washington, DC 20410-8000, telephone (202) 708-3000.

• Regulation: 24 CFR 891.165.

Project/Activity: Family Services of Western Pennsylvania I, Sarver, PA, Project Number: 033-HD063/PA28-Q011-001.

Nature of Requirement: Section 891.165 provides that the duration of the fund reservation of the capital advance is 18 months from the date of issuance with limited exception up to 24 months, as approved by HUD on a case-by-case basis.

Granted by: John C. Weicher, Assistant Secretary for Housing-Federal Housing Commissioner.

Date Granted: February 25, 2004.

Reason Waived: Additional time was needed to process the firm commitment application and to prepare the initial closing documents.

Contact: Willie Spearmon, Director, Office of Housing Assistance and Grant Administration, Department of Housing and Urban Development, 451 Seventh Street, SW., Washington, DC 20410-8000, telephone (202) 708-3000.

• Regulation: 24 CFR 891.165.

Project/Activity: Legion Woods Apartments, New Haven, CT, Project Number: 017-HD028/CT26-Q001-004.

Nature of Requirement: Section 891.165 provides that the duration of the fund reservation of the capital advance is 18 months from the date of issuance with limited exception up to 24 months, as approved by HUD on a case-by-case basis.

Granted by: John C. Weicher, Assistant Secretary for Housing-Federal Housing Commissioner.

Date Granted: February 25, 2004.

Reason Waived: Additional time was needed for the sponsor to obtain additional funds from the state agency.

Contact: Willie Spearmon, Director, Office of Housing Assistance and Grant Administration, Department of Housing and Urban Development, 451 Seventh Street, SW., Washington, DC 20410-8000, telephone (202) 708-3000.

• Regulation: 24 CFR 891.165.

Project/Activity: Family Services of Western Pennsylvania II, Apollo, PA, Project Number: 033-HD064/PA28-Q011-002.

Nature of Requirement: Section 891.165 provides that the duration of the fund reservation of the capital advance is 18 months from the date of issuance with limited exception up to 24 months, as approved by HUD on a case-by-case basis.

Granted by: John C. Weicher, Assistant Secretary for Housing-Federal Housing Commissioner.

Date Granted: February 25, 2004.

Reason Waived: Additional time was needed to process the firm commitment application and to prepare the initial closing documents.

Contact: Willie Spearmon, Director, Office of Housing Assistance and Grant Administration, Department of Housing and Urban Development, 451 Seventh Street, SW., Washington, DC 20410-8000, telephone (202) 708-3000.

• Regulation: 24 CFR 891.165.

Project/Activity: Piney Ridge Apartments, Danville, VA, Project Number: 051-HD077/VA36-Q981-008.

Nature of Requirement: Section 891.165 provides that the duration of the fund reservation of the capital advance is 18 months from the date of issuance with limited exception up to 24 months, as approved by HUD on a case-by-case basis.

Granted by: John C. Weicher, Assistant Secretary for Housing-Federal Housing Commissioner.

Date Granted: February 25, 2004.

Reason Waived: Additional time was granted because the sponsor had contributed substantial amounts of funding toward the development of the project, and additional funding would be available beginning July 1, 2004.

Contact: Willie Spearmon, Director, Office of Housing Assistance and Grant Administration, Department of Housing and Urban Development, 451 Seventh Street, SW., Washington, DC 20410-8000, telephone (202) 708-3000.

• Regulation: 24 CFR 891.165.

Project/Activity: Royal Palm Apartments, Miami, FL, Project Number: 066-EE085/FL29-S011-009.

Nature of Requirement: Section 891.165 provides that the duration of the fund reservation of the capital advance is 18 months from the date of issuance with limited exception up to 24 months, as approved by HUD on a case-by-case basis.

Granted by: John C. Weicher, Assistant Secretary for Housing-Federal Housing Commissioner.

Date Granted: March 4, 2004.

Reason Waived: Additional time was needed for the sponsor to locate an alternate site due to zoning issues, which in turn delayed finalization of the plans. Additional time was also needed to secure secondary financing from the Dade County Home Program.

Contact: Willie Spearmon, Director, Office of Housing Assistance and Grant Administration, Department of Housing and Urban Development, 451 Seventh Street, SW., Washington, DC 20410-8000, telephone (202) 708-3000.

• Regulation: 24 CFR 891.165.

Project/Activity: BCARC Homes IV, Inc., Palm Bay, FL, Project Number: 067-HD086/FL29-Q011-006.

Nature of Requirement: Section 891.165 provides that the duration of the fund reservation of the capital advance is 18 months from the date of issuance with limited exception up to 24 months, as approved by HUD on a case-by-case basis.

Granted by: John C. Weicher, Assistant Secretary for Housing-Federal Housing Commissioner.

Date Granted: March 8, 2004.

Reason Waived: Additional time was needed for the sponsor to re-bid for a new general contractor, obtain a revised cost analysis, and prepare additional exhibits.

Contact: Willie Spearmon, Director, Office of Housing Assistance and Grant Administration, Department of Housing and Urban Development, 451 Seventh Street, SW., Washington, DC 20410-8000, telephone (202) 708-3000.

• Regulation: 24 CFR 891.165.

Project/Activity: Congress Street Apartments, New Port Richey, FL, Project Number: 067-HD077/FL29-Q001-001.

Nature of Requirement: Section 891.165 provides that the duration of the fund reservation of the capital advance is 18 months from the date of issuance with limited exception up to 24 months, as approved by HUD on a case-by-case basis.

Granted by: John C. Weicher, Assistant Secretary for Housing-Federal Housing Commissioner.

Date Granted: March 8, 2004.

Reason Waived: Additional time was needed to seek funding from Pasco County.

Contact: Willie Spearmon, Director, Office of Housing Assistance and Grant Administration, Department of Housing and Urban Development, 451 Seventh Street, SW., Washington, DC 20410-8000, telephone (202) 708-3000.

• Regulation: 24 CFR 891.165.

Project/Activity: Pathways, Greenwich, CT, Project Number: 017-HD022/CT26-Q981-001.

Nature of Requirement: Section 891.165 provides that the duration of the fund reservation of the capital advance is 18 months from the date of issuance with limited exception up to 24 months, as approved by HUD on a case-by-case basis.

Granted by: John C. Weicher, Assistant Secretary for Housing-Federal Housing Commissioner.

Date Granted: March 9, 2004.

Reason Waived: Additional time was needed to submit the firm commitment application.

Contact: Willie Spearmon, Director, Office of Housing Assistance and Grant Administration, Department of Housing and Urban Development, 451 Seventh Street, SW., Washington, DC 20410-8000, telephone (202) 708-3000.

• Regulation: 24 CFR 891.165.

Project/Activity: Villa Regina, West Palm Beach, FL, Project Number: 066-EE086/FL29-S011-010.

Nature of Requirement: Section 891.165 provides that the duration of the fund reservation of the capital advance is 18 months from the date of issuance with limited exception up to 24 months, as approved by HUD on a case-by-case basis.

Granted by: John C. Weicher, Assistant Secretary for Housing-Federal Housing Commissioner.

Date Granted: March 9, 2004.

Reason Waived: Additional time was needed to finalize plans and to secure secondary financing.

Contact: Willie Spearmon, Director, Office of Housing Assistance and Grant Administration, Department of Housing and Urban Development, 451 Seventh Street, SW., Washington, DC 20410-8000, telephone (202) 708-3000.

• Regulation: 24 CFR 891.165.

Project/Activity: Vinfen's Forest Residence, Weymouth, MA, Project Number: 023-HD176/MA06-Q011-004.

Nature of Requirement: Section 891.165 provides that the duration of the fund reservation of the capital advance is 18 months from the date of issuance with limited exception up to 24 months, as approved by HUD on a case-by-case basis.

Granted by: John C. Weicher, Assistant Secretary for Housing-Federal Housing Commissioner.

Date Granted: March 16, 2004.

Reason Waived: Additional time was needed to process the firm commitment application and initial closing documents.

Contact: Willie Spearmon, Director, Office of Housing Assistance and Grant Administration, Department of Housing and Urban Development, 451 Seventh Street, SW., Washington, DC 20410-8000, telephone (202) 708-3000.

• Regulation: 24 CFR 891.165.

Project/Activity: Whalley House II, New Haven, CT, Project Number: 017-HD031/CT26-Q011-003.

Nature of Requirement: Section 891.165 provides that the duration of the fund reservation of the capital advance is 18 months from the date of issuance with limited exception up to 24 months, as approved by HUD on a case-by-case basis.

Granted by: John C. Weicher, Assistant Secretary for Housing-Federal Housing Commissioner.

Date Granted: March 20, 2004.

Reason Waived: Additional time was needed to complete revisions of specifications due to redesign of the project, and to secure secondary financing.

Contact: Willie Spearmon, Director, Office of Housing Assistance and Grant Administration, Department of Housing and Urban Development, 451 Seventh Street, SW., Washington, DC 20410-8000, telephone (202) 708-3000.

• Regulation: 24 CFR 891.165.

Project/Activity: Psalm 23 Project, Ellenwood, GA, Project Number: 061-EE090/GA06-S991-006.

Nature of Requirement: Section 891.165 provides that the duration of the fund reservation of the capital advance is 18 months from the date of issuance with limited exception up to 24 months, as approved by HUD on a case-by-case basis.

Granted by: John C. Weicher, Assistant Secretary for Housing-Federal Housing Commissioner.

Date Granted: March 20, 2004.

Reason Waived: Additional time was needed to hire an experienced consultant, and to secure additional funding.

Contact: Willie Spearmon, Director, Office of Housing Assistance and Grant Administration, Department of Housing and Urban Development, 451 Seventh Street, SW., Washington, DC 20410-8000, telephone (202) 708-3000.

• Regulation: 24 CFR 891.165.

Project/Activity: Weir Landing, Yarmouth MA, Project Number: 023-HD173/MA06-Q011-001.

Nature of Requirement: Section 891.165 provides that the duration of the fund reservation of the capital advance is 18 months from the date of issuance with limited exception up to 24 months, as approved by HUD on a case-by-case basis.

Granted by: John C. Weicher, Assistant Secretary for Housing-Federal Housing Commissioner.

Date Granted: March 20, 2004.

Reason Waived: Additional time was needed to change the scope of work required by HUD's architect, and to secure additional funding.

Contact: Willie Spearmon, Director, Office of Housing Assistance and Grant Administration, Department of Housing and Urban Development, 451 Seventh Street, SW., Washington, DC 20410-8000, telephone (202) 708-3000.

• Regulation: 24 CFR 891.165.

Project/Activity: The Providence Center, Providence, RI, Project Number: 016-HD035/RI43-Q011-002.

Nature of Requirement: Section 891.165 provides that the duration of the fund reservation of the capital advance is 18 months from the date of issuance with limited exception up to 24 months, as approved by HUD on a case-by-case basis.

Granted by: John C. Weicher, Assistant Secretary for Housing-Federal Housing Commissioner.

Date Granted: March 22, 2004.

Reason Waived: Additional time was needed to process the firm commitment application.

Contact: Willie Spearmon, Director, Office of Housing Assistance and Grant Administration, Department of Housing and Urban Development, 451 Seventh Street, SW., Washington, DC 20410-8000, telephone (202) 708-3000.

• Regulation: 24 CFR 891.165.

Project/Activity: Vinfen's Plain Residence, Rockland, MA, Project Number: 023-HD175/MA06-Q011-003.

Nature of Requirement: Section 891.165 provides that the duration of the fund reservation of the capital advance is 18 months from the date of issuance with limited exception up to 24 months, as approved by HUD on a case-by-case basis.

Granted by: John C. Weicher, Assistant Secretary for Housing-Federal Housing Commissioner.

Date Granted: March 23, 2004.

Reason Waived: Additional time was needed to process the firm commitment application.

Contact: Willie Spearmon, Director, Office of Housing Assistance and Grant Administration, Department of Housing and Urban Development, 451 Seventh Street, SW., Washington, DC 20410-8000, telephone (202) 708-3000.

• Regulation: 24 CFR 891.165.

Project/Activity: Casa Dorada, Ponce, PR, Project Number: 056-EE044/RQ46-S011-002.

Nature of Requirement: Section 891.165 provides that the duration of the fund reservation of the capital advance is 18 months from the date of issuance with limited exception up to 24 months, as approved by HUD on a case-by-case basis.

Granted by: John C. Weicher, Assistant Secretary for Housing-Federal Housing Commissioner.

Date Granted: March 23, 2004.

Reason Waived: Additional time was needed for the sponsor to secure additional funds, and to resolve issues with local government officials.

Contact: Willie Spearmon, Director, Office of Housing Assistance and Grant Administration, Department of Housing and Urban Development, 451 Seventh Street, SW., Washington, DC 20410-8000, telephone (202) 708-3000.

• Regulation: 24 CFR 891.165.

Project/Activity: Parque Platino, Lares, PR, Project Number: 056-EE043/RQ46-S011-001.

Nature of Requirement: Section 891.165 provides that the duration of the fund reservation of the capital advance is 18 months from the date of issuance with limited exception up to 24 months, as approved by HUD on a case-by-case basis.

Granted by: John C. Weicher, Assistant Secretary for Housing-Federal Housing Commissioner.

Date Granted: March 23, 2004.

Reason Waived: Additional time was needed for the sponsor to amend its corporate charter, as well as to apply for and obtain a separate IRS 501(c)(3) tax exemption.

Contact: Willie Spearmon, Director, Office of Housing Assistance and Grant Administration, Department of Housing and Urban Development, 451 Seventh Street, SW., Washington, DC 20410-8000, telephone (202) 708-3000.

• Regulation: 24 CFR 891.165.

Project/Activity: 703 Cedar Street Senior Housing, Garberville, CA, Project Number: 121-EE147/CA39-S011-007.

Nature of Requirement: Section 891.165 provides that the duration of the fund reservation of the capital advance is 18 months from the date of issuance with limited exception up to 24 months, as approved by HUD on a case-by-case basis.

Granted by: John C. Weicher, Assistant Secretary for Housing-Federal Housing Commissioner.

Date Granted: March 25, 2004.

Reason Waived: Additional time was needed to finalize a cost with the contractor.

Contact: Willie Spearmon, Director, Office of Housing Assistance and Grant Administration, Department of Housing and Urban Development, 451 Seventh Street, SW., Washington, DC 20410-8000, telephone (202) 708-3000.

• Regulation: 24 CFR 891.165.

Project/Activity: Cedars II, Lebanese Community Housing, Methuen, Massachusetts, Project Number: 023-EE109/MA06-S991-003.

Nature of Requirement: Section 891.165 provides that the duration of the fund reservation of the capital advance is 18 months from the date of issuance with limited exception up to 24 months, as approved by HUD on a case-by-case basis.

Granted by: John C. Weicher, Assistant Secretary for Housing-Federal Housing Commissioner.

Date Granted: March 30, 2004.

Reason Waived: Additional time was needed to process the firm commitment application.

Contact: Willie Spearmon, Director, Office of Housing Assistance and Grant Administration, Department of Housing and Urban Development, 451 Seventh Street, SW., Washington, DC 20410-8000, telephone (202) 708-3000.

• Regulation: 24 CFR 891.205.

Project/Activity: Tongore Pines II, Olivebridge, NY, Project Number: 012-EE326/NY36S021-007.

Nature of Requirement: Section 891.205 requires Section 202 project owners to have tax-exempt status under Section 501(c)(3) or (c)(4) of the Internal Revenue Code prior to initial closing.

Granted by: John C. Weicher, Assistant Secretary for Housing-Federal Housing Commissioner.

Date Granted: March 9, 2004.

Reason Waived: The proposed Section 202 project is an extension of the sponsor's existing 202 project. The combining of the two projects will promote savings, since the residents can utilize the existing community room and reduced operating expenses.

Contact: Willie Spearmon, Director, Office of Housing Assistance and Grant Administration, Department of Housing and Urban Development, 451 Seventh Street, SW., Washington, DC 20410-8000, telephone (202) 708-3000.

• Regulation: 24 CFR 891.410(c).

Project/Activity: Wingo Elderly Housing, Wingo, KY, Project Number: 082-EE066.

Nature of Requirement: Section 891.410 relates to admission of families to projects for elderly or handicapped families that received reservations under Section 202 of the Housing Act of 1959 and housing assistance under Section 8 of the U.S. Housing Act of 1937. Section 891.410(c) limits occupancy to very low-income elderly persons. To qualify, households must include a minimum of one person who is at least 62 years of age at the time of initial occupancy.

Granted by: John C. Weicher, Assistant Secretary for Housing-Federal Housing Commissioner.

Date Granted: January 16, 2004.

Reason Waived: The property owners have made every effort to market the project within the City of Wingo, and the surrounding counties of Mayfield and Graves, including contacting various religious, social, and community organizations with no success.

Contact: Beverly J. Miller, Director, Office of Asset Management, Department of Housing and Urban Development, 451 Seventh Street, SW., Washington, DC 20410-8000, telephone (202) 708-3730.

• Regulation: 24 CFR 891.410(c).

Project/Activity: Highview Unity Apartments, Charleston, WV, Project Number: 045-EE010.

Nature of Requirement: Section 891.410 relates to admission of families to projects for elderly or handicapped families that received reservations under Section 202 of the Housing Act of 1959 and housing assistance under Section 8 of the U.S. Housing Act of 1937. Section 891.410(c) limits occupancy to very low-income elderly persons. To qualify, households must include a minimum of one person who is at least 62 years of age at the time of initial occupancy.

Granted by: John C. Weicher, Assistant Secretary for Housing-Federal Housing Commissioner.

Date Granted: February 5, 2004.

Reason Waived: Despite aggressive marketing efforts to try to attract residents 62 years of age or older, the property has been able to get only 11 of 19 units occupied. This occupancy level is not able to sustain the property, and early mortgage default is certain.

Contact: Beverly J. Miller, Director, Office of Asset Management, Department of Housing and Urban Development, 451 Seventh Street, SW., Washington, DC 20410-8000, telephone (202) 708-3730.

• Regulation: 24 CFR 891.410(c).

Project/Activity: Echo Valley Village, Pittsburgh, NH, Project Number: 024-EE040.

Nature of Requirement: Section 891.410 relates to admission of families to projects for elderly or handicapped families that received reservations under Section 202 of the Housing Act of 1959 and housing assistance under Section 8 of the U.S. Housing Act of 1937. Section 891.410(c) limits occupancy to very low-income elderly persons. To qualify, households must include a minimum of one person who is at least 62 years of age at the time of initial occupancy.

Granted by: John C. Weicher, Assistant Secretary for Housing-Federal Housing Commissioner.

Date Granted: March 2, 2004.

Reason Waived: The current occupancy level will not support the complex and early mortgage default is certain. Providing for a waiver of age and very-low income requirements will allow the owner additional flexibility in attempting to rent vacant units.

Contact: Beverly J. Miller, Director, Office of Asset Management, Department of Housing and Urban Development, 451 Seventh Street, SW., Washington, DC 20410-8000, telephone (202) 708-3730.

• Regulation: 24 CFR 891.410(c).

Project/Activity: Harford Village, Harford, PA, Project Number: 034-EE075.

Nature of Requirement: Section 891.410 relates to admission of families to projects for elderly or handicapped families that received reservations under Section 202 of the Housing Act of 1959 and housing assistance under Section 8 of the U.S. Housing Act of 1937. Section 891.410(c) limits occupancy to very low-income elderly persons. To qualify, households must include a minimum of one person who is at least 62 years of age at the time of initial occupancy.

Granted by: John C. Weicher, Assistant Secretary for Housing-Federal Housing Commissioner.

Date Granted: March 17, 2004.

Reason Waived: The current occupancy level will not support operations of the project. Providing flexibility of the very low income requirement will allow the owner to rent vacant units, and possibly start a waiting list.

Contact: Beverly J. Miller, Director, Office of Asset Management, Department of Housing and Urban Development, 451 Seventh Street, SW., Washington DC 20410-8000, telephone (202) 708-3730.

• Regulation: FY2003 SuperNOFA, Housing Counseling Program, 68 FR 21241 (NOFA).

Project/Activity: Credit Counseling Centers, Inc. of South Portland, Maine (CCCI), a HUD-approved local housing counseling agency (LHCA), applied for a comprehensive housing counseling grant under the FY2003 SuperNOFA competition, and was conditionally awarded a grant of $38,836. In October 2003, CCCI merged into Money Management International, Inc. (MMI), a nationwide, nonprofit credit counseling corporation headquartered in Houston, Texas. MMI will maintain a branch office in Portland, doing business in Maine under the name “Consumer Credit Counseling Services of Maine, Inc. (CCCS).” CCCI dissolved its board of directors and all assets have been transferred to MMI.

Nature of Requirement: Because CCCI no longer exists, the grant intended for this organization must be made in the name of MMI, whereby funds will be reserved for MMI. This change, however, requires the waiver of two NOFA requirements. MMI would not have been eligible to apply for this grant under the terms of the NOFA because it does not meet the definition of an LHCA. Further, MMI expects to receive a subgrant from the National Foundation for Credit Counseling (NFCC), a HUD-approved Intermediary Housing Counseling Organization. The NOFA prohibits LHCAs from receiving both a grant directly from HUD and a subgrant from a HUD-funded intermediary organization.

Granted by: John C. Weicher, Assistant Secretary for Housing-Federal Housing Commissioner.

Date Granted: March 10, 2004.

Reason Waived: The waiver is necessary to allow MMI, doing business as CCCS, to receive the grant conditionally awarded to CCI. Granting the requested waiver would prevent a disruption of housing counseling services to low- and moderate-income residents formerly served by CCCI.

Contact: Kitty M. Woodley, Office of Single Family Housing, Department of Housing and Urban Development 451 Seventh Street, SW., Washington, DC 20410-8000, telephone (202) 708-3175.

III. Regulatory Waivers Granted by the Office of Public and Indian Housing

For further information about the following regulatory waivers, please see the name of the contact person that immediately follows the description of the waiver granted.

• Regulation: 24 CFR 882.514(c).

Project/Activity: Salt Lake City Housing Authority (SCHA), Salt Lake City, UT. The SCHA requested a waiver of § 882.514(c) in order to allow Mod Rehab owners who are parties to housing assistance payments contracts with the SLCHA to advertise or solicit applications from low-income families after owners notify the SLCHA of vacancies.

Nature of Requirement: Section 882.514(c) allows owners of Mod Rehab projects to advertise or solicit applications from low-income families when a public housing agency (PHA) is unable to refer a sufficient number of families to the owner within 30 days of notification by the owner to the PHA of a vacancy.

Granted by: Michael Liu, Assistant Secretary for Public and Indian Housing.

Date Granted: March 26, 2004.

Reason Waived: The waiver to allow Mod Rehab owners to advertise and solicit applications upon notification by the owner of a vacancy without regard to the 30-day period was granted based on the high vacancy rate (over seven percent) in Mod Rehab properties and the SCHA's inability to maintain and refer a sufficient pool of interested applicants.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 902.33(c).

Project/Activity: Fairfield Housing Authority (AL010), Fairfield, AL.

Nature of Requirement: The regulation establishes certain reporting compliance dates. Unaudited financial statements are required to be submitted two months after the public housing agency (PHA) fiscal year end and audited financial statements are required no later than nine months after the PHA's fiscal year end in accordance with the Single Audit Act and OMB Circular A-133.

Granted by: Michael Liu, Assistant Secretary for Public and Indian Housing.

Date Granted: January 30, 2004.

Reason Waived: The housing authority requested an extension of the due date for the purpose of resolving a prior Office of the Inspector General (OIG) audit finding before the independent public accountant (IPA) issues the audit report. The housing authority provided the OIG information with respect to the audit finding, and it will be forwarding the audited submission as soon as it receives a written response from the OIG clearing the finding.

Contact: Judy Wojciechowski, Program Manager, Integrated Assessment System, Real Estate Assessment Center, Office of Public and Indian Housing, Department of Housing and Urban Development, 451 Seventh Street, SW., Washington, DC 20410-5000, telephone (202) 708-4932.

• Regulation: 24 CFR 902.33(c).

Project/Activity: Waterloo Housing Authority (IA050), Waterloo, IA.

Nature of Requirement: The regulation establishes certain reporting compliance dates. Unaudited financial statements are required to be submitted two months after the public housing agency (PHA) fiscal year end and audited financial statements are required no later than nine months after the PHA's fiscal year end in accordance with the Single Audit Act and OMB Circular A-133.

Granted by: Michael Liu, Assistant Secretary for Public and Indian Housing.

Date Granted: March 26, 2004.

Reason Waived: The housing authority requested an extension of the time to submit the audited financial submission. The housing authority, a component unit of the City of Waterloo, could not submit its audited financial because it is dependent on the city's completion of their annual audit. This issue has hindered the housing authority's ability to submit its audit report to the Real Estate Assessment Center (REAC) in a timely manner.

Contact: Judy Wojciechowski, Program Manager, Integrated Assessment System, Real Estate Assessment Center, Office of Public and Indian Housing, Department of Housing and Urban Development, 451 Seventh Street, SW., Washington, DC 20410-5000, telephone (202) 708-4932.

• Regulation: 24 CFR 902.33(c).

Project/Activity: Durham Housing Authority (NC013), Durham, NC.

Nature of Requirement: Fairfield Housing Authority (AL010), Fairfield, AL.

Nature of Requirement: The regulation establishes certain reporting compliance dates. Unaudited financial statements are required to be submitted two months after the public housing agency (PHA) fiscal year end and audited financial statements are required no later than nine months after the PHA's fiscal year end in accordance with the Single Audit Act and OMB Circular A-133.

Granted by: Michael Liu, Assistant Secretary for Public and Indian Housing.

Date Granted: January 12, 2004.

Reason Waived: The housing authority alleges an extension of the due date is needed because of an ongoing investigation by HUD's Office of Inspector General. The scope of the investigation has increased into other areas, which prompted the IPA to move the audit commencement date from November 17, 2003, to January 6, 2004.

Contact: Judy Wojciechowski, Program Manager, Integrated Assessment System, Real Estate Assessment Center, Office of Public and Indian Housing, Department of Housing and Urban Development, 451 Seventh Street, SW., Washington, DC 20410-5000, telephone (202) 708-4932.

• Regulation: 24 CFR 902.33(c).

Project/Activity: Eunice Housing Authority (NM027), Eunice, NM.

Nature of Requirement: Fairfield Housing Authority (AL010), Fairfield, AL.

Nature of Requirement: The regulation establishes certain reporting compliance dates. Unaudited financial statements are required to be submitted two months after the public housing agency (PHA) fiscal year end and audited financial statements are required no later than nine months after the PHA's fiscal year end in accordance with the Single Audit Act and OMB Circular A-133.

Granted by: Michael Liu, Assistant Secretary for Public and Indian Housing.

Date Granted: March 12, 2004.

Reason Waived: The housing authority advised that it would be unable to comply with the March 31, 2004, audited financial submission due date. The housing authority, a component unit of the City of Eunice, cannot submit its audited financial submission because it is dependent on the city's completion of their annual audit. This issue hindered the housing authority's ability to submit its audit report to the REAC in a timely manner.

Contact: Judy Wojciechowski, Program Manager, Integrated Assessment System, Real Estate Assessment Center, Office of Public and Indian Housing, Department of Housing and Urban Development, 451 Seventh Street, SW., Washington, DC 20410-5000, telephone (202) 708-4932.

• Regulation: 24 CFR 902.33(c).

Project/Activity: Santa Clara Housing Authority (NM029), Santa Clara, NM.

Nature of Requirement: Fairfield Housing Authority (AL010), Fairfield, AL.

Nature of Requirement: The regulation establishes certain reporting compliance dates. Unaudited financial statements are required to be submitted two months after the public housing agency (PHA) fiscal year end and audited financial statements are required no later than nine months after the PHA's fiscal year end in accordance with the Single Audit Act and OMB Circular A-133.

Granted by: Michael Liu, Assistant Secretary for Public and Indian Housing.

Date Granted: March 26, 2004.

Reason Waived: The housing authority requested an extension of time to submit the audited financial submission. The housing authority, a component unit of the Municipality of Santa Clara, could not submit its audited financial submission because it is dependent on the municipality for completion of their annual audit. This issue hindered the housing authority's ability to submit its audit report to the REAC in a timely manner.

Contact: Judy Wojciechowski, Program Manager, Integrated Assessment System, Real Estate Assessment Center, Office of Public and Indian Housing, Department of Housing and Urban Development, 451 Seventh Street, SW., Washington, DC 20410-5000, telephone (202) 708-4932.

• Regulation: 24 CFR 902.33(c).

Project/Activity: Parma Housing Authority (OH073), Parma, OH.

Nature of Requirement: Fairfield Housing Authority (AL010), Fairfield, AL.

Nature of Requirement: The regulation establishes certain reporting compliance dates. Unaudited financial statements are required to be submitted two months after the public housing agency (PHA) fiscal year end and audited financial statements are required no later than nine months after the PHA's fiscal year end in accordance with the Single Audit Act and OMB Circular A-133.

Granted by: Michael Liu, Assistant Secretary for Public and Indian Housing.

Date Granted: February 20, 2004.

Reason Waived: The housing authority is a component unit of the City of Parma, and the auditor for the State of Ohio has yet to release the city's audit. In addition, both the housing authority and the city have experienced key personnel changes.

Contact: Judy Wojciechowski, Program Manager, Integrated Assessment System, Real Estate Assessment Center, Office of Public and Indian Housing, Department of Housing and Urban Development, 451 Seventh Street, SW., Washington, DC 20410-5000, telephone (202) 708-4932.

• Regulation: 24 CFR 902.33(c).

Project/Activity: Franklin County Housing Authority (PA034), Chambersburg, PA.

Nature of Requirement: The regulation establishes certain reporting compliance dates. Unaudited financial statements are required to be submitted two months after the public housing agency (PHA) fiscal year end and audited financial statements are required no later than nine months after the PHA's fiscal year end in accordance with the Single Audit Act and OMB Circular A-133.

Granted by: Michael Liu, Assistant Secretary for Public and Indian Housing.

Date Granted: February 9, 2004.

Reason Waived: The housing authority advised that the auditor submitted Financial Assessment SubSystem (FASS) information in a timely manner, and it believed that the audited financial report had been successfully transmitted to the REAC as of December 19, 2003. However, the housing authority later learned that it received a late presumptive failure for not completing the last step in the submission process, which resulted in non-submission of the FASS data.

Contact: Judy Wojciechowski, Program Manager, Integrated Assessment System, Real Estate Assessment Center, Office of Public and Indian Housing, Department of Housing and Urban Development, 451 Seventh Street, SW., Washington, DC 20410-5000, telephone (202) 708-4932.

• Regulation: 24 CFR 902.33(c).

Project/Activity: Paducah Housing Authority (TX084), Paducah, TX.

Nature of Requirement: The regulation establishes certain reporting compliance dates. Unaudited financial statements are required to be submitted two months after the public housing agency (PHA) fiscal year end and audited financial statements are required no later than nine months after the PHA's fiscal year end in accordance with the Single Audit Act and OMB Circular A-133.

Granted by: Michael Liu, Assistant Secretary for Public and Indian Housing.

Date Granted: February 24, 2004.

Reason Waived: The housing authority advised that it did not include in its unaudited financial submission, two Rural Rental Housing programs managed by the housing authority, an error discovered during the annual audit. Consequently, the FASS invalidated the unaudited financial submission permitting the housing authority to submit a corrected submission to include these two programs. Knowing that it would not be able to meet the deadline date for the audited submission, the housing authority submitted a waiver request of the audited submission due date. The corrected unaudited submission was approved on January 10, 2004, and the system automatically generated a late presumptive failure for the audited submission.

Contact: Judy Wojciechowski, Program Manager, Integrated Assessment System, Real Estate Assessment Center, Office of Public and Indian Housing, Department of Housing and Urban Development, 451 Seventh Street, SW., Washington, DC 20410-5000, telephone (202) 708-4932.

• Regulation: 24 CFR 902.33(c).

Project/Activity: Housing Authority of the City of Diboll (TX229), Diboll, TX.

Nature of Requirement: The regulation establishes certain reporting compliance dates. Unaudited financial statements are required to be submitted two months after the public housing agency (PHA) fiscal year end and audited financial statements are required no later than nine months after the PHA's fiscal year end in accordance with the Single Audit Act and OMB Circular A-133.

Granted by: Michael Liu, Assistant Secretary for Public and Indian Housing.

Date Granted: January 30, 2004.

Reason Waived: The housing authority requested an extension of the due date for the purpose of resolving a prior OIG audit finding before the IPA issues the audit report. The housing authority provided the OIG information with respect to the audit finding and has a meeting scheduled with the OIG on January 22, 2004. The housing authority will be forwarding the audited submission as soon as the OIG clears the finding.

Contact: Judy Wojciechowski, Program Manager, Integrated Assessment System, Real Estate Assessment Center, Office of Public and Indian Housing, Department of Housing and Urban Development, 451 Seventh Street, SW., Washington, DC 20410-5000, telephone (202) 708-4932.

• Regulation: 24 CFR 902.33(c).

Project/Activity: Staunton Redevelopment & Housing Authority (VA023) Staunton, VA.

Nature of Requirement: The regulation establishes certain reporting compliance dates. Unaudited financial statements are required to be submitted two months after the public housing agency (PHA) fiscal year end and audited financial statements are required no later than nine months after the PHA's fiscal year end in accordance with the Single Audit Act and OMB Circular A-133.

Granted by: Michael Liu, Assistant Secretary for Public and Indian Housing.

Date Granted: March 1, 2004.

Reason Waived: The housing authority advised that it was not able to meet the due date because the auditor did not notify the housing authority that the audit was ready for submission to FASS. The auditor commenced the audit on July 8, 2003. However, because the housing authority encountered difficulties imposed by the auditor during the audit, the audit was not completed until December 22, 2003. The final step to a three-step submission process was not performed and resulted in the housing authority receiving a late presumptive failure.

Contact: Judy Wojciechowski, Program Manager, Integrated Assessment System, Real Estate Assessment Center, Office of Public and Indian Housing, Department of Housing and Urban Development, 451 Seventh Street, SW., Washington, DC 20410-5000, telephone (202) 708-4932.

• Regulation: 24 CFR 941.606 (n)(1)(ii)(B).

Project/Activity: Victoria Courts, Phase I (Refugio Street Apartments, on site), San Antonio, TX.

Nature of Requirement: This section requires that if the partner and/or owner entity (or any other entity with an identity of interest with such parties) wants to serve as a general contractor for the project or development. The entity may award itself the construction contract only if it can demonstrate to HUD's satisfaction that its bid is the lowest submitted in response to a public request for bids.

Granted by: Michael Liu, Assistant Secretary for Public and Indian Housing.

Date Granted: February 4, 2004.

Reason Waived: The waiver was approved in order for Carleton Construction Company to complete Phase I of the Victoria Courts project. The San Antonio Housing Authority (SAHA) submitted an independent third-party cost estimate from FAS Construction Management, Inc. on December 5, 2003. Based on its review, FAS found the costs submitted by Carleton Construction Company to be reasonable and competitive for the San Antonio area for the type of construction proposed. The guaranteed maximum price bid offered by Carleton Construction Company is approximately four percent less than the cost estimate prepared by FAS. This satisfies HUD condition that the construction contract is less than or equal to the independent cost estimate.

Contact: Milan Ozdinec, Deputy Assistant Secretary for Public Housing Investments, Office of Public and Indian Housing, Department of Housing and Urban Development, 451 Seventh Street, SW., Washington, DC 20410-5000, telephone (202) 401-8812.

• Regulation: 24 CFR 982.401(f)(2)(i).

Project/Activity: Bristol Housing Authority, Bristol, CT. The Bristol Housing Authority (BHA) requested a waiver of the acceptability criteria addressing illumination and electricity found at 24 CFR 982.401(f)(2)(i) under HUD's Housing Quality Standards as a reasonable accommodation for a housing choice voucher participant with disabilities. BHA issued a voucher to a mentally challenged amputee, who found an accessible one-bedroom unit in a building with a wheelchair ramp and other amenities that accommodated his needs. However, the voucher holder moved into the unit prior to BHA conducting an inspection for housing quality compliance. BHA subsequently inspected the unit and determined that although the unit's bedroom and bathroom each contained a large window, the living room did not contain a window, which violated the HQS acceptability criteria that state that there must be at least one window in the living room and in each sleeping room. BHA determined that the large windows in the bedroom and the bathroom provided sufficient natural illumination for the entire unit. Furthermore, the landlord was unable to install a window in the living room area because the wall adjoins another unit. Additionally, BHA stated that it would be extremely difficult for Mr. Blais to find other housing in the area that meets his needs.

Nature of Requirement: Section 982.401(f)(2)(i) states that there must be at least one window in the living room and in each sleeping room of a dwelling unit.

Granted by: Michael Liu, Assistant Secretary for Public and Indian Housing.

Date Granted: January 2, 2004.

Reason Waived: Approval of the waiver was granted due to the fact that the unit was determined to have sufficient illumination from its large bedroom and bathroom windows, had amenities that accommodated the voucher participant's disabilities, and other suitable housing was unavailable in the vicinity.

Contact: Gerald Benoit, Director, Housing Voucher Management and Operations Division, Office of Housing Voucher Programs, Office of Public and Indian Housing, Department of Housing and Urban Development, 451 Seventh Street, SW., Room 4210, Washington, DC 20410, telephone (202) 708-0477.

• Regulation: 24 CFR 982.505(d).

Project/Activity: Mental Health Resources of Minneapolis, Minnesota. Mental Health Resources requested a special exception payment standard that exceeds 120 percent of the fair market rent as a reasonable accommodation for a disabled housing choice voucher program participant. This participant is developmentally disabled and had difficulty in finding available, affordable housing in the Minneapolis suburb of Maple Grove, where his three part-time jobs are located. Because of limited bus service in the area, commuting to his jobs from another location was not an option. After a lengthy search, this individual located a two-bedroom unit in Maple Grove near the house of his parents, who assist their son with some of his daily care needs.

Nature of Requirement: Section 982.505(d) allows a PHA to approve a higher payment standard within the basic range for a family that includes a person with a disability as a reasonable accommodation in accordance with 24 CFR part 8.

Granted by: Michael Liu, Assistant Secretary for Public and Indian Housing

Date Granted: January 27, 2004.

Reason Waived: Approval of the waiver was granted to allow a disabled housing choice voucher participant to rent a two-bedroom unit that is near the home of his parents, who provide some of his daily care needs, and is in close proximity to his part-time jobs.

Contact: Gerald Benoit, Director, Housing Voucher Management and Operations Division, Office of Housing Voucher Programs, Office of Public and Indian Housing, Department of Housing and Urban Development, 451 Seventh Street, SW., Room 4210, Washington, DC 20410, telephone (202) 708-0477.

• Regulation: 24 CFR 982.628(a)(2).

Project/Activity: Housing Authority of the County of Clallam, Port Angeles, Washington. The Housing Authority of the County of Clallam requested a waiver in order to allow families participating in the homeownership option of the housing choice voucher program to purchase units in a new construction development in Port Angeles, Washington.

Nature of Requirement: Section 982.628(a)(2) requires that a unit eligible for purchase with homeownership voucher assistance must be either existing or under construction at the time the family enters into the contract of sale.

Granted by: Michael Liu, Assistant Secretary for Public and Indian Housing.

Date Granted: February 13, 2004.

Reason Waived: The homeownership voucher regulations do not provide for the eligibility of units not yet under construction as a result of environmental review concerns. The project in question was developed under the United States Department of Agriculture's (USDA) Rural Housing Service Self-Help program. Under the Self-Help program, the family is required to work on the actual construction of its unit. The family must enter into a contract of sale prior to commencement of construction in order to secure a construction loan. The cost of housing in Clallam County had increased as much as 20 percent in the last six to nine months, and participation in the USDA sweat-equity program was the only hope that most of the voucher program participants had of becoming homeowners. In order to address the environmental concerns, the HUD Washington State Office completed an environmental review under the provisions of 24 CFR part 50 for the project. The HUD Washington State Office determined the project would have no significant impact on the environment and provided a recommendation for approval.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 983.3(a)(2).

Project/Activity: Housing Authority of Alameda County (HAAC), Hayward, CA. The HAAC requested a waiver of requirements regarding the availability of vouchers for project-based assistance so that it could enter into an agreement to enter into a housing assistance payments contract (AHAP) for 18 units at the Housing Alliance Project. In January 2004, the HAAC was 100 percent leased.

Nature of Requirement: Section 983.3(a)(2) requires that the number of units to be project-based must not be under a tenant-based or project-based housing assistance payments (HAP) contract or otherwise committed, e.g., vouchers issued to families searching for housing or units under an AHAP.

Granted by: Michael Liu, Assistant Secretary for Public and Indian Housing.

Date Granted: March 8, 2004.

Reason Waived: The requirement to have vouchers available at the time of execution of an AHAP was waived since the HAAC reported that it had a turnover rate of no less than ten vouchers per month. The HAAC's attrition plan indicated that it intended to stop issuing turnover vouchers in the three months immediately preceding the date anticipated for HAP execution in April 2005 to ensure that vouchers would be available for the Housing Alliance Project and that over leasing would not occur.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 983.3(a)(2).

Project Activity: Owatonna Housing Authority (OHA), Owatonna, MN. The OHA requested a waiver of requirements regarding the availability of vouchers for project-based assistance so that it could enter into an agreement to enter into a housing assistance payments contract (AHAP) for four project-based voucher units at Willow Run II Town Houses.

Nature of Requirement: Section 983.3(a)(2) requires that the number of units to be project-based must not be under a tenant-based or project-based housing assistance payments (HAP) contract or otherwise committed, e.g., vouchers issued to families searching for housing or units under an AHAP.

Granted by: Michael Liu, Assistant Secretary for Public and Indian Housing

Date Granted: March 18, 2004.

Reason Waived: The requirement to have vouchers available at the time of execution of an AHAP was waived since the OHA reported that it had a turnover rate of approximately two to four vouchers per month. The OHA's attrition plan indicated that the number of vouchers leased would drop to 104 (out of a baseline of 113) in October 2004 when Willow Run II Town Houses would be completed and a housing assistance payments contract executed.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 983.3(a)(2).

Project/Activity: Housing Authority of Alameda County (HAAC), Hayward, CA. The HAAC requested a waiver of requirements regarding the availability of vouchers for project-based assistance so that it could enter into an agreement to enter into a housing assistance payments contract (AHAP) for 40 project-based voucher units at the Bridgeway East Development.

Nature of Requirement: Section 983.3(a)(2) requires that the number of units to be project-based must not be under a tenant-based or project-based housing assistance payments (HAP) contract or otherwise committed, e.g., vouchers issued to families searching for housing or units under an AHAP.

Granted by: Michael Liu, Assistant Secretary for Public and Indian Housing.

Date Granted: March 26, 2004.

Reason Waived: The requirement to have vouchers available at the time of execution of an AHAP was waived since the HAAC reported that it had a turnover rate of no less than 10 vouchers per month. There were 12 units that will have PBA attached at the Bridgeway East Development. To ensure that 40 vouchers will be available for this project, the HAAC intends to stop issuing vouchers that turnover in the four months immediately preceding the date anticipated for HAP execution in April 2005.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 983.3(a)(2).

Project/Activity: Boston Housing Authority (BHA), Boston, MA. The BHA requested a waiver of requirements regarding the availability of vouchers for project-based assistance so that it could enter into an agreement to enter into a housing assistance payments contract (AHAP) for project-based voucher units at the Imani House, Egleston Crossing, Harvard Commons, the Metropolitan, and Seton Manor.

Nature of Requirement: Section 983.3(a)(2) requires that the number of units to be project-based must not be under a tenant-based or project based housing assistance payments (HAP) contract or otherwise committed, e.g., vouchers issued to families searching for housing or units under an AHAP.

Granted by: Michael Liu, Assistant Secretary for Public and Indian Housing.

Date Granted: March 29, 2004.

Reason Waived: The requirement to have vouchers available at the time of execution of an AHAP was waived since the BHA has developed a comprehensive attrition plan to bring its program-leasing rate back in line with its baseline units. This plan includes the addition of 555 new units to the BHA's baseline unit allocation obtained as a result of public housing demolition, HOPE VI activities and a voluntary compliance agreement entered into between the BHA and HUD. The BHA's 2005 fiscal year began on April 1, 2004, and through the combination of attrition, acquisition of new units and the BHA's contribution of financial resources, the BHA anticipates that its leasing rate will be in line with its total number of allocated baseline units by the end of its 2005 fiscal year.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 983.51(a), (b), (c).

Project/Activity: Housing Authority of the City of Rock Hill (HACR), Rock Hill, SC. The HACR requested a waiver of competitive selection of owner proposals to permit it to attach project-based assistance (PBA) to Highland Park Mill.

Nature of Requirement: Section 983.51 requires competitive selection of owner proposals in accordance with a housing authority's HUD-approved advertisement and unit selection policy.

Granted by: Michael Liu, Assistant Secretary for Public and Indian Housing.

Date Granted: January 2, 2004.

Reason Waived: Approval to waive competitive selection was granted for Highland Park Mill since the project underwent a competitive process and was awarded tax-exempt bonds and low income housing tax credits through the South Carolina Finance Agency.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 983.51.

Project/Activity: Sacramento Housing and Redevelopment Agency (SHRA), Sacramento, CA. The SHRA requested a waiver of competitive selection of owner proposals under the project-based program for the Phoenix Park project.

Nature of Requirement: Section 983.51 requires competitive selection of owner proposals in accordance with a housing authority's HUD-approved advertisement and unit selection policy.

Granted by: Michael Liu, Assistant Secretary for Public and Indian Housing.

Date Granted: March 1, 2004.

Reason Waived: Approval to waive competitive selection was granted for the Phoenix Park project since the project had undergone three federal competitions. The project was awarded $25.83 million in federal low income housing tax credits and the project was awarded funds by the City of Sacramento under the federal HOME and Community Development Block Grant programs.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 983.51.

Project Activity: Delaware County Housing Authority (DCHA), Delaware County, PA. The DCHA requested a waiver of competitive selection of owner proposals under the project-based program for the Upland Terrace project.

Nature of Requirement: Section 983.51 requires competitive selection of owner proposals in accordance with a housing authority's HUD-approved advertisement and unit selection policy.

Granted by: Michael Liu, Assistant Secretary for Public and Indian Housing.

Date Granted: March 8, 2004.

Reason Waived: Approval to waive competitive selection was granted for the Upland Terrace project since the project had undergone a previous competition under the federal low income housing tax credit program.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: 24 CFR 990.107(f) and 990.109.

Project Activity: Lycoming Co., PA, Housing Authority. A request was made to permit the Authority to benefit from energy performance contracting for developments that have resident-paid utilities. The housing authority estimates that it could increase energy savings substantially if it were able to undertake energy performance contracting for its resident-paid utilities.

Nature of Requirement: Under 24 CFR 990.107 and 990.109, Operating Fund Formula energy conservation incentive that relates to energy performance contracting currently applies to only PHA-paid utilities. The Lycoming Co. Housing Authority has resident-paid utilities.

Granted by: Michael Liu, Assistant Secretary for Public and Indian Housing.

Date Granted: January 2, 2004.

Reason Waived: In September 1996, the Oakland Housing Authority was granted a waiver to permit the Authority to benefit from energy performance contracting for developments with resident-paid utilities. The waiver was granted on the basis that the housing authority presented a sound and reasonable methodology for doing so. The Lycoming Co. Housing Authority requested a waiver based on the same approved methodology. The waiver permits the housing authority to exclude from its PFS calculation of rental income the increased rental income due to the difference between updated baseline utility allowances (before implementation of the energy conservation measures) and revised allowances (after implementation of the measures) for the project(s) involved for the duration of the contract period, which cannot exceed 12 years.

Contact: Chris Kubacki, Director, ATTN: Peggy Mangum, Public Housing Financial Management Division, Real Estate Assessment Center, Office of Public and Indian Housing, Department of Housing and Urban Development, 1280 Maryland Avenue, SW., Suite 800, Washington, DC 20024, telephone (202) 708-4932.

• Regulation: 24 CFR 990.107(f) and 990.109.

Project/Activity: Paducah, GA, Housing Authority. A request was made to permit the housing authority to benefit from energy performance contracting for developments that have resident-paid utilities. The housing authority estimates that it could increase energy savings substantially if it were able to undertake energy performance contracting for its resident-paid utilities.

Nature of Requirement: Under 24 CFR 990.107 and 990.109, an Operating Fund Formula energy conservation incentive that relates to energy performance contracting currently applies to only PHA-paid utilities. The Paducah Housing Authority has resident-paid utilities.

Granted by: Michael Liu, Assistant Secretary for Public and Indian Housing.

Date Granted: February 20, 2004.

Reason Waived: In September 1996, the Oakland Housing Authority was granted a waiver to permit the housing authority to benefit from energy performance contracting for developments with resident-paid utilities. The waiver was granted on the basis that the housing authority presented a sound and reasonable methodology for doing so. The Paducah Housing Authority requested a waiver based on the same approved methodology. The waiver permits the housing authority to exclude from its PFS calculation of rental income the increased rental income due to the difference between updated baseline utility allowances (before implementation of the energy conservation measures) and revised allowances (after implementation of the measures) for the project(s) involved for the duration of the contract period, which cannot exceed 12 years.

Contact: Chris Kubacki, Director, ATTN: Peggy Mangum, Public Housing Financial Management Division, Real Estate Assessment Center, Office of Public and Indian Housing, Department of Housing and Urban Development, 1280 Maryland Avenue, SW., Suite 800, Washington, DC 20024, telephone (202) 708-4932.

• Regulation: 24 CFR 990.107(f) and 990.109.

Project/Activity: City of Fort Myers, FL, Housing Authority. The authority made a request was made to permit it benefit from energy performance contracting for developments that have resident-paid utilities. The housing authority estimates that it could increase energy savings substantially if it were able to undertake energy performance contracting for its resident-paid utilities.

Nature of Requirement: Under 24 CFR 990.107 and 990.109, an rating Fund Formula energy conservation incentive that relates to energy performance contracting currently applies to only PHA-paid utilities. The City of Ft. Myers Housing Authority has resident-paid utilities.

Granted by: Michael Liu, Assistant Secretary for Public and Indian Housing.

Date Granted: March 3, 2004.

Reason Waived: In September 1996, the Oakland Housing Authority was granted a waiver to permit the housing authority to benefit from energy performance contracting for developments with resident-paid utilities. The waiver was granted on the basis that the housing authority presented a sound and reasonable methodology for doing so. The City of Ft. Myers Housing Authority requested a waiver based on the same approved methodology. The waiver permits the housing authority to exclude from its PFS calculation of rental income the increased rental income due to the difference between updated baseline utility allowances (before implementation of the energy conservation measures) and revised allowances (after implementation of the measures) for the project(s) involved for the duration of the contract period, which cannot exceed 12 years.

Contact: Chris Kubacki, Director, ATTN: Peggy Mangum, Public Housing Financial Management Division, Real Estate Assessment Center, Office of Public and Indian Housing, Department of Housing and Urban Development, 1280 Maryland Avenue, SW., Suite 800, Washington, DC 20024, telephone (202) 708-4932.

• Regulation: 24 CFR 1000.214.

Project/Activity: The Village of Allakaket's submission of an Indian Housing Plan (IHP) for Fiscal Year (FY) 2004 funding made available under the Native American Housing Assistance and Self-Determination Act (NAHASDA) of 1996.

Nature of Requirement: Section 1000.214 establishes a July 1st deadline for the submission of an IHP.

Granted by: Michael Liu, Assistant Secretary for Public and Indian Housing.

Date Granted: March 12, 2004.

Reason Waived: The Allakaket Village Council had made several attempts to submit an IHP that was in compliance with Section 102 of NAHASDA; however, the Village lost its administrator/IHP writer. The Village voted on November 18, 2003, to designate the Interior Regional Housing Authority (IRHA) as the tribally designated housing entity (TDHE) for FY2004, so that the Village could receive much needed funding for affordable housing activities and the grant could be administered by an entity with administrative capacity.

Contact: Deborah Lalancette, Director, Grants Management, Denver Program ONAP, Department of Housing and Urban Development, 1999 Broadway, Suite 3390, Denver, CO 80202; telephone (303) 675-1625.

• Regulation: Section II subpart E of the January 16, 2001, Federal Register Notice, Revisions to PHA Project-Based Assistance (PBA) Program; Initial Guidance.

Project/Activity: Minneapolis Public Housing Agency (MPHA), Minneapolis, MN. The MPHA requested an exception to the initial guidance since the St. Barnabas project is located in census tract 1054 that has a poverty rate of 40.1 percent.

Nature of Requirement: Section II subpart E of the initial guidance requires that in order to meet the Department's goal of deconcentration and expanding housing and economic opportunities, the projects must be in census tracts with poverty rates of less than 20 percent.

Granted by: Michael Liu, Assistant Secretary for Public and Indian Housing.

Date Granted: January 2, 2004.

Reason Waived: Approval of the exception for deconcentration was granted since the project is located two blocks north of the Minneapolis Empowerment Zone. The purpose of an Empowerment Zone is to open new businesses, and create jobs, housing, and new educational and healthcare opportunities for thousands of Americans and since the project is immediately outside the Empowerment Zone the project should also derive benefits from the Empowerment Zone. The goals of an Empowerment Zone are consistent with the goal of deconcentrating poverty and expanding housing and economic opportunities.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: Section II subpart E of the January 16, 2001, Federal Register Notice, Revisions to PHA Project-Based Assistance (PBA) Program; Initial Guidance.

Project/Activity: Rochester Housing Agency (RHA), Rochester, NY. The RHA requested an exception to the initial guidance since Wilson Commencement Park Phase II is located in a census tract with a poverty rate of 42.6 percent.

Nature of Requirement: Section II subpart E of the initial guidance requires that in order to meet the Department's goal of deconcentration and expanding housing and economic opportunities, the projects must be in census tracts with poverty rates of less than 20 percent.

Granted by: Michael Liu, Assistant Secretary for Public and Indian Housing

Date Granted: January 27, 2004.

Reason Waived: Approval of the exception for deconcentration was granted since the project is located at 225 Joseph Avenue, which is in the City of Rochester's Renewal Community. The purpose of establishing renewal communities is to open new businesses, and create jobs, housing, and new educational and healthcare opportunities for thousands of Americans. These goals are consistent with the goal of deconcentrating poverty and expanding housing and economic opportunities.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: Section II subpart E of the January 16, 2001, Federal Register Notice, Revisions to PHA Project-Based Assistance (PBA) Program; Initial Guidance.

Project/Activity: Chicago Housing Authority (CHA), Chicago, IL. The CHA requested an exception to the initial guidance since Wentworth Commons is located in a census tract with a poverty rate of 28 percent.

Nature of Requirement: Section II subpart E of the initial guidance requires that in order to meet the Department's goal of deconcentration and expanding housing and economic opportunities, the projects must be in census tracts with poverty rates of less than 20 percent.

Granted by: Michael Liu, Assistant Secretary for Public and Indian Housing.

Date Granted: January 27, 2004.

Reason Waived: Approval of the exception for deconcentration was granted since Wentworth Commons is located near the Michigan Avenue business corridor that has been slated for redevelopment and the vacant land adjacent to the project will be developed by the Roseland Community Hospital. The hospital intends to invest $5.3 million to expand its emergency room facility with the potential to create 25 limited construction jobs, 75 new full-time jobs and the retention of 550 existing jobs. A Roseland Professional Center for doctors' offices, retail shops, a restaurant and other professional offices is also planned for the vacant land adjacent to the project and will create 75 new and 25 temporary construction jobs. The economic development activities and significant job creation are consistent with the goals of deconcentrating poverty and expanding housing and economic opportunities.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: Section II subpart E of the January 16, 2001, Federal Register Notice, Revisions to PHA Project-Based Assistance (PBA) Program; Initial Guidance.

Project/Activity: Housing Authority of New Orleans (HANO), New Orleans, LA. The HANO requested an exception to the initial guidance for 100 scattered site units located in census tracts with a poverty rate greater than 20 percent.

Nature of Requirement: Section II subpart E of the initial guidance requires that in order to meet the Department's goal of deconcentration and expanding housing and economic opportunities, the projects must be in census tracts with poverty rates of less than 20 percent.

Granted by: Michael Liu, Assistant Secretary for Public and Indian Housing.

Date Granted: January 31, 2004.

Reason Waived: Approval of the exception for deconcentration was granted for 53 scattered site units. The exception was granted since the census tracts within which the units are located have undergone or will undergo major revitalization as a result of two HOPE VI grants awarded to HANO. Non-federal funds have been invested in the areas including the development of a Wal-Mart superstore that will create over 500 jobs. Many of the units are located in census tracts where the density of public housing units has been significantly reduced as a result of the HOPE VI projects.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: Section II subpart E of the January 16, 2001, Federal Register Notice, Revisions to PHA Project-Based Assistance (PBA) Program; Initial Guidance.

Project/Activity: St. Paul Public Housing Agency (SPPHA), St. Paul, MN. The SPPH requested an exception to the initial guidance since Crestview Community Expansion is located in a census tract with a poverty rate of 23 percent.

Nature of Requirement: Section II subpart E of the initial guidance requires that in order to meet the Department's goal of deconcentration and expanding housing and economic opportunities, the projects must be in census tracts with poverty rates of less than 20 percent.

Granted by: Michael Liu, Assistant Secretary for Public and Indian Housing.

Date Granted: February 17, 2004.

Reason Waived: Approval of the exception for deconcentration was granted since the entire project consisting of three buildings is located within one block of the HUD-designated St. Paul Enterprise Zone and should derive its benefits. The purpose of establishing enterprise zones is to open new businesses, and create jobs, housing, and new educational and healthcare opportunities for thousands of Americans. In addition, from 1989 to 1999 poverty measured by household decreased from 18.1 percent to 13.1 percent in census tract 309; the percentage of households having wage or salary income increased from 74.4 percent to 87.1 percent; and median household income increased by 72 percent. The goals of an enterprise zone are consistent with the goal of deconcentrating poverty and expanding housing and economic opportunities, and the change in the economic indicators in the census tract over a ten-year period demonstrates improvement.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: Section II subpart F of the January 16, 2001, Federal Register Notice, Revisions to PHA Project-Based Assistance (PBA) Program; Initial Guidance.

Project/Activity: Minneapolis Public Housing Agency (MPHA), Minneapolis, MN. The MPHA requested an exception to the initial guidance to permit it to attach PBA to the Archdale and St. Barnabas projects.

Nature of Requirement: Section II subpart F requires that no more than 25 percent of the dwelling units in any building may be assisted under a housing assistance payments (HAP) contract for PBA except for dwelling units that are specifically made available for elderly families, disabled families and families receiving supportive services. Until regulations are promulgated regarding the category of families receiving supportive services, Headquarters is authorizing implementation of this aspect of the law on a case-by-case basis.

Granted by: Michael Liu, Assistant Secretary for Public and Indian Housing.

Date Granted: February 17, 2004.

Reason Waived: Approval to waive the 25 percent cap on the number of units in a building that can have PBA attached was granted for the Archdale and St. Barnabas since Central Community Housing Trust will provide supportive services for families living there through a living skills program. Each client will be assigned an independent living skills counselor who will develop an individualized service plan. The program will focus on maintaining employment, developing budgeting skills, achieving educational goals,and developing self-discipline with regard to maintaining an apartment, nutritional habits, and physical and emotional health. There will be an on-site independent living skills program at St. Barnabas. This program will assist residents in meeting productivity goals of either school or work, in learning skills to maintain housing, and in addressing any personal or family issues that might impact self-sufficiency. The services at both projects are consistent with the statute.

Contact: Gerald Benoit, Director, Housing Vouchers Management and Operations Division, Office of Public Housing and Voucher Programs, Office of Public and Indian Housing, Department of Housing and Urban Development, 451 Seventh Street, SW., Room 4210, Washington, DC 20410-5000, telephone (202) 708-0477.

• Regulation: Section II subpart E of the January 16, 2001, Federal Register Notice, Revisions to PHA Project-Based Assistance (PBA) Program; Initial Guidance.

Project/Activity: Housing Authority of New Orleans (HANO), New Orleans, LA. The HANO requested an exception to the initial guidance for 100 scattered site units located in census tracts with a poverty rate greater than 20 percent.

Nature of Requirement: Section II subpart E of the initial guidance requires that in order to meet the department's goal of deconcentration and expanding housing and economic opportunities, the projects must be in census tracts with poverty rates of less than 20 percent.

Granted by: Michael Liu, Assistant Secretary for Public and Indian Housing.

Date Granted: February 20, 2004.

Reason Waived: Approval of the exception for deconcentration was granted for 22 scattered site units since the census tracts within which the units are located have undergone or will undergo major revitalization as a result two HOPE VI grants awarded to HANO. Non-federal funds have been invested in the areas including the development of a Wal-Mart Superstore that potentially will create over 500 jobs. Many of the units are located in census tracts where the density of public housing units has been significantly reduced as a result of the HOPE VI projects. Additionally, many of the areas have undergone significant economic development resulting in the creation of hundreds of jobs.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: Section II subpart E of the January 16, 2001, Federal Register Notice, Revisions to PHA Project-Based Assistance (PBA) Program; Initial Guidance.

Project/Activity: Boston Housing Authority (BHA), Boston, MA. The BHA requested an exception to the initial guidance for the Amory Place project that is located in a census tract with a poverty rate greater than 20 percent.

Nature of Requirement: Section II subpart E of the initial guidance requires that in order to meet the Department's goal of deconcentration and expanding housing and economic opportunities, the projects must be in census tracts with poverty rates of less than 20 percent.

Granted by: Michael Liu, Assistant Secretary for Public and Indian Housing.

Date Granted: February 24, 2004.

Reason Waived: Approval of the exception for deconcentration was granted because the Amory Street project is located within Boston's HUD designated Empowerment Zone. The purpose of establishing Empowerment Zones (EZs) and Enterprise Communities (ECs) is to open new businesses, create jobs, housing, and new educational and healthcare opportunities for Americans living in distressed areas. Millions of dollars have been invested in this neighborhood to expand homeownership opportunities and increase commercial and economic opportunities. New businesses have been established that will ultimately aid in the deconcentration of poverty by creating additional jobs.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: Section II subpart E of the January 16, 2001, Federal Register Notice, Revisions to PHA Project-Based Assistance (PBA) Program; Initial Guidance.

Project/Activity: Rochester Housing Authority (RHA), Rochester, NY. The RHA requested an exception to the initial guidance since Olean-Kennedy Town Homes is located in a census tract with a poverty rate of 39.6 percent.

Nature of Requirement: Section II subpart E of the initial guidance requires that in order to meet the Department's goal of deconcentration and expanding housing and economic opportunities, the projects must be in census tracts with poverty rates of less than 20 percent.

Granted by: Michael Liu, Assistant Secretary for Public and Indian Housing.

Date Granted: March 1, 2004.

Reason Waived: Approval of the exception for deconcentration was granted for Olean-Kennedy Town Homes since all of the units are located on streets (Doran, Olean and Edith) that are in the City of Rochester's HUD-designated Renewal Community. The purpose of establishing renewal communities is to open new businesses, and create jobs, housing, and new educational and healthcare opportunities for thousands of Americans. In addition, there will be an overall reduction in assisted units from 111 to 67 due to the demolishment of Kennedy Townhouses and Olean Townhouses. A reduction in assisted units and the goals of a renewal community are consistent with the goal of deconcentrating poverty and expanding housing and economic opportunities.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: Section II subpart E of the January 16, 2001, Federal Register Notice, Revisions to PHA Project-Based Assistance (PBA) Program; Initial Guidance.

Project/Activity: Rochester Housing Authority (RHA), Rochester, NY. The RHA requested an exception to the initial guidance since Catholic Family Center is located in a census tract with a poverty rate of 34.4 percent.

Nature of Requirement: Section II subpart E of the initial guidance requires that in order to meet the Department's goal of deconcentration and expanding housing and economic opportunities, a project must be in a census tract with a poverty rate of less than 20 percent.

Granted by: Michael Liu, Assistant Secretary for Public and Indian Housing.

Date Granted: March 8, 2004.

Reason Waived: Approval of the exception for deconcentration was granted since the Catholic Family Center is in the City of Rochester's Renewal Community. The purpose of establishing renewal communities is to open new businesses, and create jobs, housing, and new educational and healthcare opportunities for thousands of Americans. These goals are consistent with the goal of deconcentrating poverty and expanding housing and economic opportunities.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: Section II subpart E of the January 16, 2001, Federal Register Notice, Revisions to PHA Project-Based Assistance (PBA) Program; Initial Guidance.

Project/Activity: St. Paul Public Housing Authority (SPPHA), St. Paul, MN. The SPPHA requested an exception to the initial guidance since Model Cities III is located in a census tract with a poverty rate of 30 percent.

Nature of Requirement: Section II subpart E of the initial guidance requires that in order to meet the Department's goal of deconcentration and expanding housing and economic opportunities, the projects must be in census tracts with poverty rates of less than 20 percent.

Granted by: Michael Liu, Assistant Secretary for Public and Indian Housing.

Date Granted: March 8, 2004.

Reason Waived: Approval of the exception for deconcentration was granted since Model Cities III is located in a HUD-designated Enterprise Community, the purpose of which is to open new businesses, and create jobs, housing, and new educational and healthcare opportunities for thousands of Americans. These goals are consistent with the goal of deconcentrating poverty and expanding housing and economic opportunities. In addition, the median household income of the census tract increased from $20,993 in 1989 to $32,932 in 1999. This increase of 57 percent was greater than the 46 percent increase for the City of St. Paul as a whole.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: Section II subpart F of the January 16, 2001, Federal Register Notice, Revisions to PHA Project-Based Assistance (PBA) Program; Initial Guidance.

Project/Activity: Metropolitan Council Housing and Redevelopment Authority (MCHRA), St. Paul, MN. The MCHRA requested an exception to the initial guidance to permit it to attach PBA to East Metro Place III.

Nature of Requirement: Section II subpart F requires that no more than 25 percent of the dwelling units in any building may be assisted under a housing assistance payments (HAP) contract for PBA except for dwelling units that are specifically made available for elderly families, disabled families and families receiving supportive services. Until regulations are promulgated regarding the category of families receiving supportive services, Headquarters is authorizing implementation of this aspect of the law on a case-by-case basis.

Granted by: Michael Liu, Assistant Secretary for Public and Indian Housing.

Date Granted: March 12, 2004.

Reason Waived: Approval to waive the 25 percent cap on the number of units in a building that can have PBA attached was granted for East Metro Place II since families that will occupy ten of the 14 new units will participate in the Metro HRA's FSS program through a FSS Contract of Participation, with the supportive services and case management provided by East Metro Women's Council. Since 20 of the 34 units in the building already had PBA attached, the waiver applied to only those ten units where families will receive supportive services through the Metro HRA's FSS program.

Contact: Gerald Benoit, Director, Housing Vouchers Management and Operations Division, Office of Public Housing and Voucher Programs, Office of Public and Indian Housing, Department of Housing and Urban Development, 451 Seventh Street, SW., Room 4210, Washington, DC 20410-5000, telephone (202) 708-0477.

• Regulation: Section II subpart F of the January 16, 2001, Federal Register Notice, Revisions to PHA Project-Based Assistance (PBA) Program; Initial Guidance.

Project/Activity: Rochester Housing Authority (RHA), Rochester, NY. The RHA requested an exception to the initial guidance to permit it to attach PBA to Wilson Commencement Park Phase II.

Nature of Requirement: Section II subpart F requires that no more than 25 percent of the dwelling units in any building may be assisted under a housing assistance payments (HAP) contract for PBA, except for dwelling units that are specifically made available for elderly families, disabled families and families receiving supportive services. Until regulations are promulgated regarding the category of families receiving supportive services, Headquarters is approving implementation of this aspect of the law on a case-by-case basis.

Granted by: Michael Liu, Assistant Secretary for Public and Indian Housing.

Date Granted: March 24, 2004.

Reason Waived: Approval to waive the 25 percent cap on the number of units in a building that can have PBA attached was granted for Wilson Commencement Park II since the RHA confirmed through an executed agreement with Wilson Commencement Park that families living in the project would participate in its Family Self-Sufficiency program.

Contact: Gerald Benoit, Director, Housing Vouchers Management and Operations Division, Office of Public Housing and Voucher Programs, Office of Public and Indian Housing, Department of Housing and Urban Development, 451 Seventh Street, SW., Room 4210, Washington, DC 20410-5000, telephone (202) 708-0477.

• Regulation: Section II subpart E of the January 16, 2001, Federal Register Notice, Revisions to PHA Project-Based Assistance (PBA) Program; Initial Guidance.

Project/Activity: New York City Housing Authority (NYCHA), New York, NY. The NYCHA requested an exception to the initial guidance since RAIN Apartments is located in a census tract with a poverty rate of 28 percent.

Nature of Requirement: Section II subpart E of the initial guidance requires that in order to meet the Department's goal of deconcentration and expanding housing and economic opportunities, the projects must be in census tracts with poverty rates of less than 20 percent.

Granted by: Michael Liu, Assistant Secretary for Public and Indian Housing.

Date Granted: March 26, 2004.

Reason Waived: Approval of the exception for deconcentration was granted since the project is located in the Bronx Overall Economic Development Corporation service area that operates the Bronx Empowerment Zone. It is also in a New York city-designated HUD Community Development Block Grant (CDBG) Target Area. Public investment in the project includes $3.7 million in the city's capital funds to build the RAIN Gun Hill Senior Center that will be located on the ground floor and partial cellar of the building. CDBG funds have been allocated to support a Neighborhood Commercial Revitalization program. Investment will be used to support commercial revitalization initiatives to promote the economic viability of the neighborhood retail areas and preserve the area. With the construction cost of almost $11 million, the housing and community center will create approximately 75 jobs including at least six permanent positions at the site. The public investment and economic opportunities related to this project are consistent with the goals of deconcentration.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: Section II subpart E of the January 16, 2001, Federal Register Notice, Revisions to PHA Project-Based Assistance (PBA) Program; Initial Guidance and 24 CFR 982.207(b)(3).

Project/Activity: Boston Housing Authority (BHA), Boston, MA. The BHA requested an exception to the initial guidance for the Columbia West project that is located in a census tract with a poverty rate greater than 20 percent. Additionally, the BHA requested a waiver of the selection preference regulation to select persons with persistent mental disabilities to receive project-based voucher assistance at the Columbia West project.

Nature of Requirement: Section II subpart E of the initial guidance requires that in order to meet the Department's goal of deconcentration and expanding housing and economic opportunities, the projects must be in census tracts with poverty rates of less than 20 percent. Section 982.207(b)(3) which governs tenant selection under the project-based voucher program, states that a housing agency may adopt a preference for admission of families that include a person with disabilities, but may not adopt a preference for a person with a specific disability.

Granted By: Michael Liu, Assistant Secretary for Public and Indian Housing.

Date Granted: March 26, 2004.

Reason Waived: Approval of the exception for deconcentration was granted since the project is located in an area where the state's Department of Neighborhood Development (DND) is investing a substantial amount of public dollars, as well as providing assistance to first-time homebuyers, and local businesses. Additionally, the area in which the Columbia West project will be located is in a mixed-income area where a 12-unit homeownership development is being constructed. The BHA provided detailed information supporting the fact that this project is part of the city's revitalization efforts. A waiver of 983.207(b)(3) was granted since the selection preference would be limited to the population of homeless individuals with disabilities that have significantly interfered with their ability to obtain and maintain themselves in housing, and who, without appropriate supportive services, will not be able to obtain or maintain themselves in housing, and for whom such services cannot be provided in a non-segregated setting. This waiver applied to, but was not limited to, persons with severe and persistent mental illnesses.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: Section II subpart E of the January 16, 2001, Federal Register Notice, Revisions to PHA Project-Based Assistance (PBA) Program; Initial Guidance and Section II subpart F of the January 16, 2001, Federal Register Notice, Revisions to PHA Project-Based Assistance (PBA) Program; Initial Guidance.

Project/Activity: Connecticut Department of Social Services (CDSS), Hartford, CT. The CDSS requested an exception to the initial guidance for the Sorromundi Commons project that is located in a census tract with a poverty rate greater than 20 percent. Additionally, the DSS requested an exception to the initial guidance to permit it to attach PBA to more than 25 percent of the units in the building.

Nature of Requirement: Section II subpart E of the initial guidance requires that in order to meet the Department's goal of deconcentration and expanding housing and economic opportunities, the projects must be in census tracts with poverty rates of less than 20 percent. Section II subpart F requires that no more than 25 percent of the dwelling units in any building can be assisted under a housing assistance payments (HAP) contract for PBA except for dwelling units that are specifically made available for elderly families, disabled families and families receiving supportive services. Until regulations are promulgated regarding the category of families receiving supportive services, Headquarters is authorizing implementation of this aspect of the law on a case-by-case basis.

Granted By: Michael Liu, Assistant Secretary for Public and Indian Housing.

Date Granted: March 30, 2004.

Reason Waived: Approval of the exception for deconcentration was granted since many projects are underway in the area in which Soromundi commons is located. A new convention center, hotel, and civic center are among the projects that will create jobs for residents of Soromundi Commons. The public financial commitment for these three projects totals over $235 million. In addition, the development of a community college is underway. The community college will give the residents of Soromundi Commons the opportunity to increase their earning potential by enrolling in and completing higher education courses. Finally, the area in which Soromundi Commons is located has been targeted by the State of Connecticut as a revitalization area. Approval to waive the 25 percent cap on the number of units in a building that can have PBA attached was granted for the Soromundi Commons project since the scope of the supportive services included counseling and direct linkage to education classes, training activities in financial management, and employment and educational support services.

Contact: Gerald Benoit, Director, Housing Voucher Management and Operations Division, Office of Public Housing and Voucher Programs, Office of Public and Indian Housing, Department of Housing and Urban Development, 451 Seventh Street, SW., Room 4210, Washington, DC 20410-5000, telephone (202) 708-0477.

• Regulation: 2002 ROSS NOFA, Section III F(2)(c) Program, Description, Eligible Applicants Eligible Activities.

Project/Activity: Jacksonville Housing Authority, ROSS Grant No. FL02RHS001P0011.

Nature of Requirement: Waiver of the 2002 ROSS NOFA to extend ROSS Homeownership Supportive Services training to residents of other public housing communities, which were not included in the grantee's original proposal.

Granted by: Michael Liu, Assistant Secretary for Public and Indian Housing.

Date Granted: February 20, 2004.

Reason Waived: The HUD field office explained that the Jacksonville Housing Authority would not be servicing enough residents with its ROSS Homeownership Supportive Services grant if it were limited to serving only public housing developments included in its original proposal.

Contact: Dina Lehmann-Kim, Financial Management Division, Office of Public and Indian Housing, Department of Housing and Urban Development, 451 Seventh Street, SW., Washington, DC 20410-5000, telephone (202) 708-4932.

[FR Doc. 04-24044 Filed 10-27-04; 8:45 am]

BILLING CODE 4210-32-P